DEPARTMENT OF TRANSPORTATION

Federal Motor Carrier Safety Administration

Transportation of Hazardous Materials; Designated, Preferred, and Restricted Routes

AGENCY: Federal Motor Carrier Safety Administration (FMCSA), DOT.

ACTION: Notice.

SUMMARY: This notice provides the current listing of all restricted, designated, and preferred road and highway routes for transporting radioactive (RAM) and non-radioactive hazardous materials (NRHM) that have been reported to the FMCSA by State and Indian Tribe routing agencies as of November 14, 2000. This listing has been extracted from the National Hazardous Material Route Registry (NHMRR). The information contained in this notice supersedes that published at 63 FR 31549 on June 9, 1998. The periodic updating and publishing of this listing is required by the Hazardous Materials Transportation Act of 1975 (HMTA), as amended (49 U.S.C. 5112). Also, the FMCSA's regulations include Federal standards and procedures which the States and Indian Tribes must follow if they establish, maintain, or enforce routing designations that: (1) Specify highway routes over which NRHM or RAM may, or may not, be transported within their jurisdictions; and/or (2) impose limitations or requirements with respect to highway routing of NRHM or RAM. States and Indian Tribes are also required to furnish updated route information to the FMCSA within 60 days of establishing or changing a route.

FOR FURTHER INFORMATION CONTACT: Mr. Richard Swedberg, (303) 969-5772, ext. 363, FMCSA, 555 Zang St., Room 400, Lakewood, CO 80228-1010; or Mr. Joseph Solomey, Office of the Chief Counsel, (HCC-20), (202) 366-0384, Federal Motor Carrier Safety Administration, 400 Seventh Street SW., Washington, D.C. 20590-0001. Office hours are from 7:45 a.m. to 4:15 p.m., e.t., Monday through Friday, except for Federal holidays.

SUPPLEMENTARY INFORMATION:

Electronic Access

An electronic copy of this document may be downloaded by using a computer, modem and suitable communications software from the Government Printing Office's Electronic Bulletin Board Service at (202)512-1661. Internet users may reach the Federal Register's home page at: http://www.nara.gov/fedreg and the Government Printing Office's web site at: http://www.access.gpo.gov/nara. To find the most up-to-date listing of hazmat routes, you may access the National Hazardous Material Route Registry (NHMRR) directly at: http://hazmat.fmcsa.dot.gov/. This site is considered the source of this information and will display hazmat route listings and maps which will reflect any changes that have been made since the publication of this notice.

Background

Section 5112(c) of title 49, United States Code, requires the Secretary of Transportation (Secretary), in coordination with the States and Indian Tribes, to update and publish periodically a list of current effective hazardous materials highway routing designations and restrictions. For NRHM routing designations or restrictions, 49 CFR 397.73(b) requires each State or Indian Tribe to furnish information on any new or changed routes to the FMCSA within 60 days after establishment. For RAM preferred routing, 49 CFR 397.103(c)(1) requires the authorized routing agency to provide the FMCSA with written notification in order for the route to become effective. Updates should be sent to: Mr. Richard Swedberg, FMCSA, 555 Zang St., Room 400, Lakewood, CO 80228-1010.

This notice is being published to provide the public with the FMCSA's current list of State-assigned hazardous materials (HM or hazmat) routes (alphabetically by State) along with the State and Federal points of contact. For each routing agency, the route listing may be divided into three main categories as follows: (1) Restricted Routes for ALL Hazmats, (2) Radioactive Routes, (3) and Non-Radioactive Hazmat Routes. Within the RAM and NRHM categories, the list will further be divided into restricted and designated/preferred routes. Note that “preferred routes” (49 CFR 397.103) are routes which must be utilized for shipments of “highway route controlled quantity” (HRCQ) of radioactive materials. If there are no routes to be reported under any of these categories or subcategories, the category will not appear in the route listing.

Each route will be identified with one or more restriction or designation codes which will follow the route description. Restriction codes identify which materials may not be transported along the given route, while designation codes indicate which materials the routing authority has determined must be shipped along the route. These codes can be deciphered using the Restriction/Designation key which precedes the route listing. Note that the restriction code “0” indicates that ALL hazmats, both RAM and NRHM, are restricted for the indicated route. These routes will be listed under the main category “Restricted Routes for ALL Hazmats” for that State. Because of this, you may need to look in two sections to find routes that are restricted for either RAM or NRHM. For example, to find all restricted RAM routes, first look under the “Restricted Routes for ALL Hazmats” and then look under the “RAM Restricted” section, which lists routes in which RAM alone is restricted.

Authority: 49 U.S.C. 5112; and 49 CFR 1.73.

Issued on: November 28, 2000.
Julie Anna Crillo,
Acting Assistant Administrator.

Federal Motor Carrier Safety Administration Hazmat Route Registry

Report Date: 11/14/00

The following key applies to information listed for all 50 states

Restriction/Designation Key
Restrictions | Designations
0—ALL Hazmats | A—ALL NRHM Hazmats
1—Class 1—Explosives | B—Class 1—Explosives
2—Class 2—Gas | I—Poisonous Inhalation Hazard (PIH)
3—Class 3—Flammable | M—Medical Waste
4—Class 4—Flammable Solid/Combustible | P—*Preferred Route* Class 7—Radioactive
5—Class 5—Organic |
6—Class 6—Poison |
7—Class 7—Radioactive |
8—Class 8—Corrosives |
9—Class 9—Dangerous (Other) |
i—Poisonous Inhalation Hazard (PIH) |

State: Alabama
State Agency: | AL DOT | FMCSA: | AL FMCSA Field Office
POC: | James R. Braden | FMCSA POC: | AL Motor Carrier State Director
Address: | 1409 Coliseum Blvd Montgomery, AL 36130-3050 | Address: | 500 Eastern Blvd. Suite 200 Montgomery, AL 36117-2018
Phone: | (334)-242-6474 | Phone: | (334) 223-7244
Fax: | (334) 242-6378 | Fax: |

Restricted Routes For All AL Hazmats
Designation Date | Route Description | Restrict Desig 0123456789i ABIMP
11/07/94 | Wallace Twin Tunnels [I10 & US90 in Mobile] [A signed detour is in place to direct traffic along Water St., US43, and Alt US 90. Traffic will pass over the Mobile River using the Cochrane Bridge.] | 0

Radioactive Hazmat (RAM) Routes
AL RAM Preferred Routes
Designation Date | Route Description | Restrict Desig 0123456789i ABIMP
08/26/96 | Battleship Parkway [Mobile] from Bay Bridge Rd. [Mobile] to Interstate 10 [exit 27] | P
08/26/96 | Bay Bridge Rd. [Mobile] from Interstate 165 to Battleship Parkway [over Africa Town Cochran Bridge] [Westbound Traffic: Head south on I165; To by-pass the downtown area, head north on I165.] | P
08/26/96 | Interstate 10 from Mobile City Limits to Exit 26B [Water St] [Eastbound Traffic: To avoid the downtown area, exit on I-65 North] | P
08/26/96 | Interstate 10 from Mobile City Limits to Exit 27 | P
08/26/96 | Interstate 65 from Interstate 10 to Interstate 165 [A route for trucks wishing to by-pass the downtown area.] | P
08/26/96 | Interstate 65 from Mobile City Limits to Interstate 165 | P
08/26/96 | Interstate 165 from Water St. [Mobile] to Bay Bridge Rd. exit [Mobile] | P
09/27/93 | Interstate 459 from Interstate 20/I-59 [Northeast of Birmingham] to Interstate 20/I-59 [Southwest of Birmingham] [This route should be used in lieu of I-20/I-50 in the Birmingham area, Jefferson county.] | P
08/26/96 | Water St. [Mobile] from Interstate 10 [exit 26B] to Interstate 165 | P

Non-Radioactive Hazmat (NRHM) Routes
AL NRHM Designated Routes
Designation Date | Route Description | Restrict Desig 0123456789i ABIMP
11/07/94 | US 43/Alt US90 from State 16/US 90 or I-10 to State 16/US 90 or I-10 [Alternate route for Wallace Twin Tunnels, Mobile County.] | A

State: Alaska
State Agency: | AK DOT—MSCVE | FMCSA: | AK FMCSA Field Office
POC: | Trooper Hans Roelle | FMCSA POC: | AK Motor Carrier State Director
Address: | 12050 Industry Way Building O, Suite 6 Anchorage, AK 99515 | Address: | Historic Federal Building 605 W. 4th Ave, Room 249 Anchorage, AK 99501
Phone: | (907)-345-7750 | Phone: | (907) 271-4068
Fax: | (907)-345-6835 | Fax: |
No Routes Designated as of 11/14/00

State: Arizona
State Agency: | AZ DOT, Hwy. Div. | FMCSA: | AZ FMCSA Field Office
POC: | Mike Manthey | FMCSA POC: | AZ Motor Carrier State Director
Address: | 206 South 17th Ave Phoenix, AZ 85007-3213 | Address: | 234 North Central Ave. Suite 305 Phoenix, AZ 85004
Phone: | (602)-712-8888 | Phone: | (602) 379-6851
Fax: | (602)-407-3243 | Fax: |

Restricted Routes For All AZ Hazmats
Designation Date | Route Description | Restrict Desig 0123456789i ABIMP
03/20/99 | Exit Ramp from US 60 [Westbound] to State 101 [Northbound] | 0
03/27/99 | Exit Ramp from US 60 [Eastbound] to State 101 [Southbound] | 0
01/01/90 | Interstate 10 [Deck Tunnel—Phoenix] from 7th St. exit [Mile Post 144.3] to 7th Ave. exit [Mile Post 146.2] [Interstate 17 is the designated truck route which has been posted as the alternative route for hazmat traffic.] | 0
10/16/95 | State 202 from Mile Post 8.33 [McClintock Exit] to Mile Post 11.07 [Dobson Exit] [Alternate Routes are as follows: 1. McClintock to University to Dobson 2. McClintock to McKellips to SR-101 Note: Freeway ends at SR-101 with temporary lanes to Dobson. Alternative routing may vary with continuing construction.] | 0

Non-Radioactive Hazmat (NRHM) Routes
AZ NRHM Designated Routes
Designation Date | Route Description | Restrict Desig 0123456789i ABIMP
01/01/90 | Interstate 17 from Interstate 10 [west of Deck Tunnel] to Interstate 10 [east of Deck Tunnel] | A

State: Arkansas
State Agency: | AR Hwy & Transportation Dept. | FMCSA: | AR FMCSA Field Office
POC: | Lt. George R. Franks, Jr. | FMCSA POC: | AR Motor Carrier State Director
Address: | Arkansas Highway Police Div. P.O. Box 2779 Little Rock, AR 72203 | Address: | 3414 Federal Building 700 W. Capitol Ave Little Rock, AR 72201
Phone: | 501-569-2421 | Phone: | (501) 324-5050
Fax: | 501-568-4921 | Fax: |

Restricted Routes For All AR Hazmats
Designation Date | Route Description | Restrict Desig 0123456789i ABIMP
07/08/92 | Interstate 30 from Interstate 440 to Interstate 40 [in downtown Little Rock] [Exception for local delivery.] | 0
07/08/92 | Interstate 630 [Entire Highway] [Downtown Little Rock. Exception for local delivery.] | 0

Radioactive Hazmat (RAM) Routes
AR RAM Preferred Routes
Designation Date | Route Description | Restrict Desig 0123456789i ABIMP
(unknown) | Interstate 30 from Interstate 440 to Texas [Memphis to Texarkana Route. Use this route in lieu of I-430, I-630 or that portion of I-30 connecting I-40 and I-440] | P
11/28/88 | Interstate 40 from Tennessee to Oklahoma [Memphis to Fort Smith route] | P
11/28/88 | Interstate 440 from Interstate 40 to Interstate 30 [Memphis to Texarkana route Use this route in lieu of I-430, I-630 or that portion of I-30 connecting I-40 and I-440] | P

State: California
State Agency: | CA Highway Patrol | FMCSA: | CA FMCSA Field Office
POC: | Dave Gaffney | FMCSA POC: | CA Motor Carrier State Director
Address: | P.O. Box 942898 Sacramento, CA 94298-0001 | Address: | US Bank Plaza 980 Ninth Street Sacramento, CA 95814-2724
Phone: | (916)-445-1865 | Phone: | (916) 498-5050
Fax: | (916)-446-4579 | Fax: |

Restricted Routes For All CA Hazmats
Designation Date | Route Description | Restrict Desig 0123456789i ABIMP
01/09/95 | Berryessa Knoxville Rd [Napa Valley] from Homestake Mining to South [Restrictions are placed on mine's operating permits.] | 0
01/01/95 | Monterey Traffic Underpass [City of Monterey] from Washington St. to Lighthouse Ave. [Alternate route: Pacific St. to Del Monte Ave.] | 0
01/09/95 | Napa County [Hazmat to and from the Geysers project in Lake and Sonoma county are excluded from traversing Napa county.] | 0
01/01/95 | State 24 [Caldecott Tunnel] from Mile Post R5.89 [Alameda County] to Mile Post R0.35 [Contra Costa County] [Transportation of an explosive substance, flammable liquid, liquefied petroleum gas, or poisonous gas in a tank truck, trailer, or semitrailer is allowed through the tunnel only between the hours of 3:00 AM and 5:00 AM.] | 0
01/01/95 | State 260 from Mile Post R0.62 to Mile Post R1.92 [Alameda County] [Eastbound Webster St. Tube & westbound Posey Tube from Atlantic Ave. to the end of State 260] | 0

Radioactive Hazmat (RAM) Routes
CA RAM Preferred Routes
Designation Date | Route Description | Restrict Desig 0123456789i ABIMP
02/25/00 | Interstate 5 from Interstate 605 to Interstate 805 | P
01/01/95 | Interstate 5 from Mexican Border to Interstate 805 [Radioactive route originated 02/25/00] | I,P
10/25/94 | Interstate 5 from Oregon to Interstate 210 | P
10/25/94 | Interstate 8 from Arizona to Interstate 805 [Near San Diego] | P
10/25/94 | Interstate 10 from Arizona to Interstate 605 [West of Los Angeles] | P
10/25/94 | Interstate 15 from Nevada to Interstate 8 | P
01/01/95 | Interstate 40 from Arizona to Interstate 15 [Radioactive route designated on 10/25/94] | B,I,P
01/01/95 | Interstate 80 from Nevada to Interstate 580 [north of Oakland] [Radioactive route origination date 10/24/94] | B,P
01/01/95 | Interstate 205 from Interstate 5 to Interstate 580 [South of San Joaquin Radioactive route origination date 10/24/94] | B,P
01/01/95 | Interstate 210 from Interstate 5 [North of Los Angeles] to Interstate 10 [West of Los Angeles] [Radioactive route origination date 10/25/94] | B,P
10/25/94 | Interstate 238 [in Ashland] from Interstate 580 to Interstate 880 | P
10/25/94 | Interstate 280 from Interstate 680 [in San Jose] to Interstate 380 [in San Francisco] | P
10/25/94 | Interstate 580 from Interstate 5 [Southwest of Tracy] to Interstate 680 [in Dublin] | P
10/25/94 | Interstate 605 [Los Angeles County] from Interstate 210 to Interstate 5 | P
10/25/94 | Interstate 680 from Interstate 80 [in Cordelia Junction] to Interstate 280 [in San Jose] | P
10/25/94 | Interstate 805 from Interstate 5 [North of the city of San Diego] to Interstate 5 [South of the city of San Diego] | P
10/25/94 | Interstate 880 from Interstate 980 [in Oakland] to Interstate 238 | P
01/01/95 | Interstate 980 [Oakland area] from Interstate 580 to Interstate 880 [Radioactive route origination date 10/25/94] | B,P

Non-Radioactive Hazmat (NRHM) Routes
CA NRHM Restricted Routes
Designation Date | Route Description | Restrict Desig 0123456789i ABIMP
01/09/95 | Napa County [general county restriction] | 1
01/01/95 | State 75 [Coronado Toll Bridge] from Mile Post 19.59 to Mile Post R22.26 [San Diego County] | 1,3,8
02/25/00 | State 101 [Golden Gate Bridge] from Marin/San Francisco [County Line—North End] to Toll Plaza [South End] [No explosive laden trucks are permitted on the bridge between the hours of 0630 and 0930 and between 1600 and 1900 on weekdays. Bridge escort required.] | 1
01/01/95 | S.F.-Oakland Bay Bridge from Mile Post 4.92 [San Francisco] to Mile Post 2.20 [Alameda County] | 1,3
02/25/00 | Sepulveda Blvd. [tunnel] from W. Manchester Ave to Mariposa Ave | 1,2,3,4,5,6,8

CA NRHM Designated Routes
Designation Date | Route Description | Restrict Desig 0123456789i ABIMP
01/01/95 | 3rd St. [San Francisco Bay] from US 101 to Berry St. | B
01/01/95 | 4th St. [San Francisco Bay] from 3rd St. to Channel St. | B
01/01/95 | 6th St. [San Francisco Bay] from Channel St. to [southeast] | B
01/01/95 | Academy Ave. from Ventura Ave. [State 180] to State 168 | B
01/01/95 | Adobe Rd. from Amboy Rd. to State 62 | B
01/01/95 | Alabama St. from Interstate 10 to Norton A.F.B. | B
01/01/95 | Amboy Rd. from National Trails Highway [near Amboy] to Adobe Rd. | B
01/01/95 | American Ave. from Cove Ave. to State 63 | B
01/01/95 | Army St. [San Francisco Bay] from 3rd St. to Pier 80 | B
01/01/95 | Bear Valley Cutoff from US 395 to State 18 | B
01/01/95 | Berry St. [San Francisco Bay] from 3rd St. to pier | B
01/01/95 | Bird Rd. from Chrisman Rd. to State 33 [or Ahern Rd.] | B
01/01/95 | Byron Rd. [J4] from Grant Line Rd. to State 4 | B
01/01/95 | County 2 [Susanville Rd.] from State 299 to State 139 | B
01/01/95 | County 3 from US 395 to US 395 | B
01/01/95 | CE7 [Pedrick Rd.] from Interstate 80 to Interstate 5 | B
01/01/95 | Cargo Way [San Francisco Bay] from 3rd St. to Jennings St. | B
01/01/95 | Channel St. from 4th St. to 6th St. | B
01/01/95 | Chestnut Ave. from State 99 to Jensen Ave. | B
01/01/95 | Chrisman Rd./11th St. from Interstate 580 to Bird Rd. | B
01/01/95 | Cove Ave. from State 180 to American Ave. | B
01/01/95 | Crafton Ave. from Sand Canyon Rd. to Lockheed Propulsion | B
01/01/95 | Daggett-Yermo Rd. from Interstate 15 to Interstate 40 | B
01/01/95 | Dennison St. [San Francisco Bay] from Interstate 880 to Coast Guard Island | B
01/01/95 | Evans Ave. [San Francisco Bay] from 3rd St. to Jennings St. | B
01/01/95 | Forrester Rd. from State 86 [at Westmoreland] to Interstate 8 | B,I
01/01/95 | Fort Irwin Rd. from Interstate 15 to Fort Irwin | B
01/01/95 | G14 from US 101 [at King City] to G18 | B
01/01/95 | G18 from G14 to US 101 [near Bradley] | B
01/01/95 | Grand St. [San Francisco Bay] from Encinal Ave. to Buena Vista Ave. | B
01/01/95 | Grangeville Blvd. from State 41 to Lemoore Naval Air Station | B
01/01/95 | Grant Line Rd. from Byron Rd. to Interstate 5 | B
01/01/95 | Hueneme Rd. from Las Posas Rd. to end of road at Pacific Coast | B
01/01/95 | Hunters Point Blvd. [San Francisco Bay] from Evans Ave. to Innes Ave. | B
01/01/95 | Interstate 5 from Interstate 405 to State 78 | I
01/01/95 | Interstate 5 from Mexican Border to Interstate 805 [Radioactive route originated 02/25/00] | I,P
01/01/95 | Interstate 5 from Oregon to Interstate 405 | I
01/01/95 | Interstate 5 from Oregon to Mexico | B
01/01/95 | Interstate 8 from North of San Diego to Arizona | B
01/01/95 | Interstate 10 from Interstate 405 to Arizona | B
01/01/95 | Interstate 10 from State 60 to Arizona | I
01/01/95 | Interstate 15 from State 91 to Interstate 8 | B
01/01/95 | Interstate 15 from Nevada to State 163 | I
01/01/95 | Interstate 15 from Nevada to State 60 | A
01/01/95 | Interstate 40 from Arizona to Interstate 15 [Radioactive route designated on 10/25/94] | B,I,P
01/01/95 | Interstate 80 from Interstate 5 to Interstate 680 | I
01/01/95 | Interstate 80 [Sacramento Business Route] from Interstate 80 to Interstate 80 | B
01/01/95 | Interstate 80 from Nevada to Interstate 580 [north of Oakland] [Radioactive route origination date 10/24/94] | B,P
01/01/95 | Interstate 105 from Interstate 405 to Interstate 605 | B
01/01/95 | Interstate 110 from Interstate 10 to east of San Pedro | B
01/01/95 | Interstate 205 from Interstate 5 to Interstate 580 [South of San Joaquin Radioactive route origination date 10/24/94] | B,P
01/01/95 | Interstate 210 from Interstate 5 [North of Los Angeles] to Interstate 10 [West of Los Angeles] [Radioactive route origination date 10/25/94] | B,P
01/01/95 | Interstate 215 from Interstate 15 to Interstate 10 | B
01/01/95 | Interstate 280 from US 101 to Interstate 680/US 101 | B
01/01/95 | Interstate 405 from Interstate 5 [north of L.A.] to Interstate 5 [south of L.A.] | B,I
01/01/95 | Interstate 505 from Interstate 5 to Interstate 80 | B,I
01/01/95 | Interstate 580 from Interstate 880 to Interstate 5 | B
01/01/95 | Interstate 580 [in Oakland] from Grand Ave to Interstate 980 | B
01/01/95 | Interstate 605 from Interstate 210 to Interstate 405 | B
01/01/95 | Interstate 605 from State 91 to State 60 | I
01/01/95 | Interstate 680 from Interstate 80 to Interstate 580 | I
01/01/95 | Interstate 680 from Interstate 80 to US 101 | B
01/01/95 | Interstate 710 from City of Long Beach to City of Commerce | I
01/01/95 | Interstate 710 from Interstate 10 to Interstate 405 | B
01/01/95 | Interstate 780 from Interstate 80 to Interstate 680 | B
01/01/95 | Interstate 805 from Interstate 5 to Interstate 5 | B
01/01/95 | Interstate 805 from State 163 to Interstate 5 | I
01/01/95 | Interstate 880 from Interstate 280 to Market St. | B
01/01/95 | Interstate 980 [Oakland area] from Interstate 580 to Interstate 880 [Radioactive route origination date 10/25/94] | B,P
01/01/95 | Innes Ave. [San Francisco Bay] from Hunters Point Blvd. to Hunters Pt. Navel Shipyards | B
01/01/95 | Jennings St. [San Francisco Bay] from Evans Ave. to Cargo Way | B
01/01/95 | Jensen Ave. from Chestnut Ave. to McCall Ave. | B
01/01/95 | Jensen Ave. from Marks Ave. to State 99 | B
01/01/95 | Las Posas Rd. from US 101 to Mugu Navel Air Center [also Missile Test Center] | B
01/01/95 | Lenwood Rd. from State 58 to Interstate 15 | B,I
01/01/95 | Lugonia Ave. from Alabama St. to Menton Ave. | B
01/01/95 | Marks Ave. from State 99 to Jensen Ave. | B
01/01/95 | McCall Ave. from Jensen Ave. to Ventura Ave. [State 180] | B
01/01/95 | Menton Ave. from Lugonia Ave. to Crafton Ave. | B
01/01/95 | Mission Gate Rd. from Purisima Rd. to State 1 | B
01/01/95 | Mission Rd./Main St. [S-13] from Interstate 15 to State 76 [NOTE: Towards Fall Brook NAS.] | B
01/01/95 | National Trails Highway from Interstate 40 [near Ludlow] to Interstate 40 | B
01/01/95 | Oakland Army Base [US Navy Supply Center] from W. Grand Ave. [at Interstate 80] to Market St. [at Interstate 880] [From W. Grand Ave. via Interstate 80 to Maritime St. to 7th St. the 15th St. to Middle Harbor Rd. to 3rd St. to Market St. which connects to Interstate 880.] | B
01/01/95 | Ocean Blvd. from State 75 to North Island NAS | B
01/01/95 | Patterson Pass Rd. from Byron Rd. to Interstate 580 | B
01/01/95 | Prairie City Rd. [east of Sacramento] from US 50 | I
01/01/95 | Purisima Rd. [State 20] from State 246 to State 1 | I
01/01/95 | Railroad Blvd./River Rd. from State 98 to U.S. Customs Compound [at Mexico] | B
01/01/95 | Road 102 [E8] from Interstate 5 to State 113 | B
01/01/95 | State 1 from Purisima Rd. [State 20] to Vandenburg A.F.B. | I
01/01/95 | State 1 from US 101 [north of S.F.] to Las Cruces | B
01/01/95 | State 1 from US 101 [at Leggett] to US 101 | B
01/01/95 | State 2 from Interstate 5 to Interstate 210 | B
01/01/95 | State 4 from Interstate 680 to City of Pittsburgh | I
01/01/95 | State 4 from State 99 to Interstate 80 | B
01/01/95 | State 4 from State 99 to State 89 | B
01/01/95 | State 12 from Interstate 80 to State 99 | B
01/01/95 | State 12 from State 99 to State 49 | B
01/01/95 | State 14 from US 395 to Interstate 5 | B
01/01/95 | State 14 from US 395 to State 138 [north junction] | I
01/01/95 | State 15 from State 94 to Interstate 5 | B
01/01/95 | State 16 from State 20 to CE7 [Pedrick Rd.] | B
01/01/95 | State 16 from US 50 to State 49 | B
01/01/95 | State 17 from Interstate 880/I280 to State 1 | B
01/01/95 | State 18 from Bear Valley Cutoff to State 247 | B
01/01/95 | State 18 from State 138 to US 395 | B
01/01/95 | State 20 from State 1 to State 29 | B
01/01/95 | State 20 from State 53 to Interstate 80 | B
01/01/95 | State 22 [Garden Grove Freeway] from Interstate 405 to State 55 | B
01/01/95 | State 25 from US 101 to State 156 | B
01/01/95 | State 26 from State 99 to State 49 | B
01/01/95 | State 27 from State 118 to City of Chatsworth | I
01/01/95 | State 29 from State 20 to State 53 | B
01/01/95 | State 32 from State 36/89 to Interstate 5 | B
01/01/95 | State 33 from Bird Rd. to State 166 | B
01/01/95 | State 36 from State 99 to US 395 | B
01/01/95 | State 37 from US 101 to Interstate 80 | B
01/01/95 | State 37 from US 101 to Interstate 80 | I
01/01/95 | State 41 from State 145 to Yosemite National Park | B
01/01/95 | State 41 from US 101 to State 99 | B
01/01/95 | State 43 from State 99 to State 58 | B
01/01/95 | State 44 from Interstate 5 to State 36 | B
01/01/95 | State 46 from State 41 to State 99 | I
01/01/95 | State 49 from State 70 to State 140 [near Mariposa] | B
01/01/95 | State 53 from State 20 to State 29 | B
01/01/95 | State 55 from Interstate 405 to State 91 | B
01/01/95 | State 57 from Interstate 5 to Interstate 10 | B
01/01/95 | State 58 from State 14 to Interstate 15 | I
01/01/95 | State 58 from State 33 to Interstate 15 | B
01/01/95 | State 60 from Interstate 5 to Interstate 10 | B
01/01/95 | State 60 from Interstate 605 to Interstate 10 | I
01/01/95 | State 61 [and Hegenberger Rd.—San Francisco Bay] from Interstate 880 to Interstate 880 [The following is the designated route in the vicinity of Alameda: from Hegenberger via Interstate 880 to State 61 to Doolittle Rd. (State 61) to Otis Dr. to Broadway to Encinal Ave. (State 61) to Central Ave. to Main St. to Atlantic Ave. to Webster St. (State 61) to Buena Vista Ave. to Park St. to 23rd St. to Interstate 880. NOTE: Also, Grand St. connects Encinal Ave. and Buena Vista Ave. NOTE: Sherman St. leads to Inner Harbor from Buena Vista Ave.] | B
01/01/95 | State 62 from Interstate 10 to Arizona | B
01/01/95 | State 63 from American Ave. to State 201 | B
01/01/95 | State 65 from State 198 to State 99 | B
01/01/95 | State 65 from State 70 to Interstate 80 | B
01/01/95 | State 67 from State 94 to Interstate 8 | B
01/01/95 | State 68 from State 1 to US 101 | B
01/01/95 | State 70 from State 20 to State 99 | B
01/01/95 | State 70 from State 20 to US 395 [near border of Calf.-Nevada] | B
01/01/95 | State 71 from Interstate 10 to State 91 | B
01/01/95 | State 75 from Interstate 5 to Ocean Blvd. | B
01/01/95 | State 76 from Interstate 5 to Interstate 15 | B
01/01/95 | State 78 from Interstate 5 to Interstate 15 | I
01/01/95 | State 85 from Interstate 280 to US 101 | B
01/01/95 | State 86 from Interstate 10 to Forrester Rd. [at Westmoreland] | B,I
01/01/95 | State 88 from State 89 [at Picketts Junction] to Nevada | B
01/01/95 | State 88 from State 99 to State 49 [at Jackson] | B
01/01/95 | State 89 from Interstate 5 to Interstate 70 | B
01/01/95 | State 89 from US 395 to State 49 | B
01/01/95 | State 91 from Interstate 605 to State 215 | B
01/01/95 | State 91 from Interstate 710 to Interstate 605 | I
01/01/95 | State 92 from US 101 to Interstate 280 | B
01/01/95 | State 94 from Interstate 5 to Interstate 8 | B
01/01/95 | State 96 from State 299 to Interstate 5 | B
01/01/95 | State 98 from Interstate 8 to Interstate 8 | B
01/01/95 | State 99 from City of McFarland to State 46 | I
01/01/95 | State 99 from State 36 to Interstate 5 | B
01/01/95 | State 99 from US 50 to Interstate 5 | B
01/01/95 | State 108 from State 132 to US 395 | B
01/01/95 | State 111 from Interstate 8 to State 98 | B
01/01/95 | State 113 from Interstate 80 to State 12 | B
01/01/95 | State 113 from State 99 to CE8 [Road 102] | B
01/01/95 | State 118 from Interstate 405 to LA County Line | B
01/01/95 | State 118 from Interstate 5 to Interstate 210 | B
01/01/95 | State 118 from Interstate 5 to State 27 | I
01/01/95 | State 118 from State 126 to State 232 | B
01/01/95 | State 119 from State 99 to Interstate 5 | B
01/01/95 | State 120 from State 99 to Yosemite National Park [westside] | B
01/01/95 | State 126 from City of Santa Paula to Interstate 5 | I
01/01/95 | State 126 from Interstate 5 to State 118 | B
01/01/95 | State 127 from Nevada to Interstate 15 | B
01/01/95 | State 128 from State 1 to US 101 | B
01/01/95 | State 132 from Interstate 580 to State 49 | B
01/01/95 | State 134 from Interstate 5 to Interstate 210 | B
01/01/95 | State 136 from US 395 to State 190 | B
01/01/95 | State 138 from Interstate 5 to Interstate 15 | B
01/01/95 | State 138 from Interstate 5 to State 14 | I
01/01/95 | State 139 from Oregon to State 36 | B
01/01/95 | State 140 from State 49 to Interstate 5 | B
01/01/95 | State 145 from State 99 to State 41 | B
01/01/95 | State 147 from State 36 to State 89 | B
01/01/95 | State 149 from State 99 to State 70 | B
01/01/95 | State 152 from Interstate 5 to City of Gilroy | I
01/01/95 | State 152 from US 101 to State 99 | B
01/01/95 | State 156 from State 1 to State 152 | B
01/01/95 | State 163 from Interstate 15 to Interstate 805 | I
01/01/95 | State 163 from Interstate 8 to Interstate 15 | B
01/01/95 | State 166 from US 101 to Interstate 5 | I
01/01/95 | State 166 from US 101 to State 33 | B
01/01/95 | State 167 from Nevada to US 395 | B
01/01/95 | State 168 from Academy Ave. to Lake Shore | B
01/01/95 | State 177 from State 62 to Interstate 10 | B
01/01/95 | State 180 from McCall Ave. to Cove Ave. | B
01/01/95 | State 180 from State 33 to Marks Ave. | B
01/01/95 | State 183 from State 1 to State 68/U101 | B
01/01/95 | State 190 from US 395 to State 127 | B
01/01/95 | State 193 from State 65 to Interstate 80 | B
01/01/95 | State 198 from US 101 to Sequoia National Forest [NOTE: State 198 between State 99 and State 65 is NOT a designated route for explosives.] | B
01/01/95 | State 201 from State 99 to State 245 | B
01/01/95 | State 215 from State 91 to Interstate 15 | B
01/01/95 | State 223 from Interstate 5 to State 58 | B
01/01/95 | State 232 from State 118 to US 101 | B
01/01/95 | State 237 from Interstate 680 to US 101 | B
01/01/95 | State 242 from Interstate 680 to State 4 | I
01/01/95 | State 245 from State 201 to State 198 | B
01/01/95 | State 246 from State 1 to US 101 | B
01/01/95 | State 246 from US 101 to Purisima Rd. | I
01/01/95 | State 247 from State 18 to State 62 | B
01/01/95 | State 299 from US 101 to Nevada | B
01/01/95 | State 1000 from Hueneme Rd. to Las Posas Rd. | B
01/01/95 | Sand Canyon Rd. from Crafton Ave. to Interstate 10 | B
01/01/95 | Santa Lucia Canyon Rd. from State 1 to Vandenburg AFB | B
01/01/95 | Seal Beach Blvd. [Los Angeles] from Interstate 405 to North of Seal Beach | B
01/01/95 | Sherman St. [San Francisco Bay] from Buena Vista Ave. to S.F. Bay [Inner Harbor] | B
01/01/95 | Termo-Grasshopper Rd. from State 139 to US 395 | B
01/01/95 | Twin Cities Rd. from State 99 to Interstate 5 | B
01/01/95 | US 6 from Nevada to US 395 | B,I
01/01/95 | US 50 from Interstate 80 [Business Route] to Nevada | B
01/01/95 | US 50 from Prairie City Rd. [east of Sacramento] to Interstate 80 | I
01/01/95 | US 95 from Nevada to Interstate 10 | A
01/01/95 | US 97 from Oregon to Interstate 5 | B,I
01/01/95 | US 101 from City of Camarillo to Interstate 5 | I
01/01/95 | US 101 from Healdsburg to State 37 | I
01/01/95 | US 101 from State 166 to State 246 | I
01/01/95 | US 101 from State 232 to Las Posas Rd. | B
01/01/95 | US 101 from Oregon to State 246 | B
01/01/95 | US 199 from Oregon to US 101 | B
01/01/95 | US 395 from Nevada to Interstate 15 | I
01/01/95 | US 395 from Oregon to Nevada [NOTE: US 395 enters Nevada and returns into California in the mid-eastern section.] | B
01/01/95 | W. El Camino Ave. [Near Sacramento] from Interstate 80 to Interstate 5 | I

State: Colorado
State Agency: | CO State Patrol | FMCSA: | CO FMCSA Field Office
POC: | Capt. Allan Turner | FMCSA POC: | CO Motor Carrier State Director
Address: | 700 Kipling Street Denver, CO 80215-5865 | Address: | 555 Zang St. Room 250 Lakewood, CO 80228-1097
Phone: | (303)-239-4546 | Phone: | (303) 969-6748 x388
Fax: | (303)-239-4577 | Fax: |

Radioactive Hazmat (RAM) Routes
CO RAM Restricted Routes
Designation Date | Route Description | Restrict Desig 0123456789i ABIMP
12/30/86 | Interstate 70 from Interstate 25 [at Mile Post 274.039] to State 2 [at Mile Post 276.572] | 7
12/30/86 | Interstate 70 from Utah to US 40 [at Mile Post 261.63] | 7

CO RAM Preferred Routes
Designation Date | Route Description | Restrict Desig 0123456789i ABIMP
04/30/89 | Interstate 25 from Wyoming to New Mexico [HMR 9.5] | A,P
04/30/89 | Interstate 76 from Interstate 25 to Nebraska [HMR 9.56] | A,P
04/30/89 | Interstate 225 from Interstate 70 to Interstate 25 [HMR 9.21] | A,P
04/30/89 | Interstate 270 [Near Denver] from Interstate 70 to Interstate 76 [HMR 9.59] | A,P
03/10/89 | State 93 from Rocky Flats Plant to State 128 | P
03/10/89 | State 128 from State 93 to US 36 | P
03/10/89 | US 36 from State 128 to Interstate 25 | P

Non-Radioactive Hazmat (NRHM) Routes
CO NRHM Designated Routes
Designation Date | Route Description | Restrict Desig 0123456789i ABIMP
04/30/89 | 1st St. [City of Craig] from State 13 [east] to State 394 [Craig City Limit] [HMR 9.67] | A
04/30/89 | 1st. St. [Moffat County Rd. CG 2] from State 394 [Craig City Limit] to US 40 [HMR 9.68: Runs East from Route 394 to US 40.] | A
04/30/89 | 2nd St. [City of Lamar] from US 50/385 to Maple St. [HMR 9.26] | A
04/30/89 | County 7 [(Great Divide Rd.)] from City Limit [City of Craig (north)] to County 183 [in Moffat County] [HMR 9.29] | A
04/30/89 | County 183 [Moffat County] from County 7 [Moffat County] to State 13 [HMR 9.30] | A
04/30/89 | Great Divide Rd. [City of Craig] from US 40 [north] to City Limit [HMR 9.28] | A
04/30/89 | Interstate 25 from Wyoming to New Mexico [HMR 9.5] | A,P
04/30/89 | Interstate 70 from Interstate 270 to Kansas [HMR 9.54] | A
04/30/89 | Interstate 70 from US 6 [east of Loveland Pass] to Interstate 25 [HMR 9.53] | A
04/30/89 | Interstate 70 from Utah to US 6 [at Silverthorne [Loveland Pass]] [HMR 9.52] | A
04/30/89 | Interstate 70 [business loop] from Interstate 70 [east of Grand Junction] to State 141 [HMR 9.55] | A
04/30/89 | Interstate 76 from Interstate 25 to Nebraska [HMR 9.56] | A,P
04/30/89 | Interstate 225 from Interstate 70 to Interstate 25 [HMR 9.21] | A,P
04/30/89 | Interstate 270 [Near Denver] from Interstate 70 to Interstate 76 [HMR 9.59] | A,P
04/30/89 | Maple St. [City of Lamar] from 2nd St. to US 50/287 [HMR 9.27] | A
04/30/89 | State 9 from US 40 [in Kremmling] to Interstate 70 [in Silverthorne] [HMR 9.1] | A
04/30/89 | State 10 from Interstate 25 [in Walsenburg] to US 50 [in La Junta] [HMR 9.35] | A
04/30/89 | State 13 from US 40 [west of Craig] to US 6 [west of Rifle] [HMR 9.3] | A
04/30/89 | State 13 from Wyoming to County 183 [North of Craig] [HMR 9.2] | A
04/30/89 | State 14 from Interstate 25 to US 6 [in Sterling] [HMR 9.37] | A
04/30/89 | State 14 from US 40 to State 125 [HMR 9.36] | A
04/30/89 | State 17 from US 285 [near Mineral Hot Springs] to US 160 [near Alamosa] [HMR 9.4] | A
04/30/89 | State 47 from Interstate 25 to US 50 [State 96] [HMR 9.6] | A
04/30/89 | State 52 from State 119 to State 79 [HMR 9.50] | A
04/30/89 | State 64 from US 40 [in Dinosaur] to State 13 [HMR 9.51] | A
04/30/89 | State 71 from State 14 to US 24 [in East Limon] [HMR 9.7] | A
04/30/89 | State 71 from US 24 [in Limon (west junction)] to US 50 [near Rocky Ford] [HMR 9.8] | A
04/30/89 | State 71 from Nebraska to State 14 [HMR 9.64] | A
04/30/89 | State 79 from State 52 to Interstate 70 [at Bennett] [HMR 9.9] | A
04/30/89 | State 83 from US 24 to State 115 [HMR 9.10] | A
04/30/89 | State 91 from Interstate 70 to US 24 [near Leadville] [HMR 9.11] | A
04/30/89 | State 112 from US 285 to US 160 [HMR 9.57] | A
04/30/89 | State 113 from Nebraska to US 138 [HMR 9.12] | A
04/30/89 | State 115 from State 83 to US 50 [HMR 9.13] | A
04/30/89 | State 119 from State 157 to State 52 [HMR 9.14] | A
04/30/89 | State 125 from Wyoming to US 40 [west of Granby] [HMR 9.15] | A
04/30/89 | State 127 from Wyoming to State 125 [HMR 9.16] | A
04/30/89 | State 139 from State 64 [in Rangely] to Interstate 70 [near Loma] [HMR 9.18] | A
04/30/89 | State 141 from Interstate 70 [(Business Loop) near Grand Junction] to US 50 [HMR 9.19] | A
04/30/89 | State 141 from US 50 to US 666 [HMR 9.66] | A
04/30/89 | State 157 from US 36 to State 119 [HMR 9.20] | A
04/30/89 | State 470 from US 285 to Interstate 70 [HMR 9.60] | A
04/30/89 | US 6 from Interstate 25 [in Denver] to Interstate 70 [HMR 9.32] | A
04/30/89 | US 6 [Loveland Pass] from Interstate 70 [just east of the Eisenhower/Johnson Tunnels] to [just west of the Eisenhower/Johnson Tunnels at Silverthorne] [HMR 9.31] | A
04/30/89 | US 6 from State 13 [west of Rifle] to Interstate 70 [Exit 87] [HMR 9.33] | A
04/30/89 | US 6 from State 14 [(Main St.) in Sterling] to Nebraska [HMR 9.34] | A
04/30/89 | US 24 [Business Route] from State 71 [east junction in Limon] to State 71 [west junction] [HMR 9.48] | A
04/30/89 | US 24 [Business Route] from US 24 [on the west side of Limon] to State 71 [west junction] [HMR 9.46] | A
04/30/89 | US 24 from State 83 to Interstate 70 [at West Limon (Exit 359)] [HMR 9.39] | A
04/30/89 | US 24 from State 91 [at Leadville] to Interstate 25 [in Colorado Springs] [HMR 9.38] | A
04/30/89 | US 34 from Interstate 25 to Interstate 76 [HMR 9.40] | A
04/30/89 | US 34 from State 71 [west junction] to Nebraska [HMR 9.41] | A
04/30/89 | US 36 from Interstate 25 to State 157 [HMR 9.42] | A
04/30/89 | US 36 from Interstate 70 [in Byers] to State 71 [at Last Chance] [HMR 9.43] | A
04/30/89 | US 40 from First St. [Moffat County Road CG 2] to Interstate 70 [east of Craig] [HMR 9.45] | A
04/30/89 | US 40 from Interstate 70 [(Exit 363) in Limon] to Kansas [HMR 9.47] | A
04/30/89 | US 40 from Utah to State 13 [west of Craig] [HMR 9.44] | A
04/30/89 | US 50 from State 141 [north junction near Grand Junction] to Kansas [HMR 9.49] | A
04/30/89 | US 85 from Wyoming to Interstate 76 [HMR 9.63] | A
04/30/89 | US 138 from State 113 to US 6 [(Chestnut St.) in Sterling] [HMR 9.17] | A
04/30/89 | US 160 from New Mexico to Interstate 25 [Business Route in Walsenburg South to Exit 49 on I-25] [HMR 9.58] | A
04/30/89 | US 285 from State 112 to US 160 [HMR 9.62] | A
04/30/89 | US 285 from State 470 to State 112 [HMR 9.24] | A
04/30/89 | US 285 from US 160 [in Alamosa] to New Mexico [HMR 9.23] | A
04/30/89 | US 287 from US 40 [in Kit Carson] to Oklahoma [HMR 9.22] | A
04/30/89 | US 385 from Interstate 76 [in Julesburg] to US 40 [in Cheyenne Wells] [HMR 9.25] | A
04/30/89 | US 550 from US 160 to New Mexico [HMR 9.65] | A
04/30/89 | US 666 from Utah to New Mexico [HMR 9.61] | A

State: Connecticut
State Agency: | CT Dept. of Environmental Protection | FMCSA: | CT FMCSA Field Office
POC: | Mr. Dave Sattler | FMCSA POC: | CT Motor Carrier State Director
Address: | 79 Elm St. Hartford, CT 06106-5127 | Address: | 628-2 Hebron Ave. Suite 303 Glastonbury, CT 06033-5007
Phone: | 860-424-3289 | Phone: | (860) 659-6700 x3020
Fax: | 860-424-4059 | Fax: |
No Routes Designated as of 11/14/00

State: Delaware
State Agency: | DE Emergency Management Agency | FMCSA: | DE FMCSA Field Office
POC: | Emily Falone | FMCSA POC: | DE Motor Carrier State Director
Address: | 165 Brick Stone Landing Rd. Smyrna, DE 19977 | Address: | 300 South New St. Room 2101 Dover, DE 19904
Phone: | (302) 659-2232 | Phone: | (302) 734-8173
Fax: | (302) 659-6855 | Fax: |

Radioactive Hazmat (RAM) Routes
DE RAM Preferred Routes
Designation Date | Route Description | Restrict Desig 0123456789i ABIMP
08/09/00 | Interstate 95 from Interstate 495 [Northeast of Wilmington] to Pennsylvania | P
08/09/00 | Interstate 95 from Maryland to Interstate 495 [southwest of Wilmington] | P
08/09/00 | Interstate 295 from Interstate 95 [Southwest of Wilmington] to New Jersey | P
08/09/00 | Interstate 495 from Interstate 95 [southwest of Wilmington] to Interstate 95 [northeast of Wilmington] | P

State: District of Columbia
State Agency: | Dept. of Public Works | FMCSA: | DC FMCSA Field Office
POC: | John Payne | FMCSA POC: | DC Motor Carrier State Director
Address: | 2000 14th Street NW 6th Floor Washington, DC 20009 | Address: | Union Center Plaza 820 First St., NE., Suite 750 Washington, DC 20002
Phone: | (202)-671-2710 | Phone: | (202) 523-0178
Fax: | (202)-939-3039 | Fax: |

Restricted Routes For All DC Hazmats
Designation Date | Route Description | Restrict Desig 0123456789i ABIMP
03/08/95 | 9th St. Expressway Tunnel from North Portal [at Madison Dr.] to South Portal [south of Independence Ave.] | 0
03/08/95 | Interstate 395 Tunnel from South Portal [south of Independence Ave.] to the most northerly portal [at K St.] | 0

Non-Radioactive Hazmat (NRHM) Routes
DC NRHM Designated Routes
Designation Date | Route Description | Restrict Desig 0123456789i ABIMP
03/08/95 | Anacostia Fwy from Interstate 295 [11th St. Bridge] to E. Capitol St. | A
03/08/95 | Interstate 295 from Maryland to Interstate 695 [vicinity of 11th and L St, S.E.] | A
03/08/95 | Interstate 395 from Virginia to Interstate 695 [vicinity of 2nd and E St., S.W.] | A
03/08/95 | Interstate 695 from Interstate 295 [vicinity of 11th and L St., S.E.] to Interstate 395 [vicinity of 2nd and E St., S.W.] | A
03/08/95 | Kenilworth Ave., N.E. from E. Capital St. to Maryland | A

State: Florida
State Agency: | Florida Dept. of Transportation | FMCSA: | FL FMCSA Field Office
POC: | Capt. Ken Carr | FMCSA POC: | FL Motor Carrier State Director
Address: | Miracle Plaza 1815 Thomasville Rd. Tallahassee, FL 32303-5750 | Address: | 227 North Bronough St. Suite 2060 Tallahassee, FL 32301
Phone: | (850)-488-7920 | Phone: | (850) 942-9338
Fax: | (850)-922-6798 | Fax: |

Restricted Routes For All FL Hazmats
Designation Date | Route Description | Restrict Desig 0123456789i ABIMP
02/14/95 | Florida Ave. [Tampa] from Crosstown Expressway to Scott Street [Use Crosstown Expressway to 22nd St. North, thence north along 22nd Street to Interstate 4 to either Interstate 275 or points east.] | 0
02/14/95 | Kennedy Blvd. [Tampa] from Crosstown Expressway to Hillsborough River [Use Crosstown Expressway to Hyde Park Ave. and Davis Island Exit No. 5 to all points west.] | 0
02/14/95 | Tampa central business area [Bounded on the east by Ybor Channel, on the west by the Hillsborough River, and on the north by a line running along Scott Street east to Orange Ave, south to Cass St., east to the Seaboard Cost Line Railroad, northeast to Adamo Drive, and on the south by Garrison Channel. * State-maintained highways other than Florida Ave. and Kennedy Blvd. are exceptions to this restriction *] | 0

State: Georgia
State Agency: | GA Public Service Comm | FMCSA: | GA FMCSA Field Office
POC: | Lucia A. Ramey | FMCSA POC: | GA Motor Carrier State Director
Address: | 1007 Virginia Ave. Suite 310 Hapeville, GA 30354 | Address: | 61 Forsyth St., SW Suite 17T85 Atlanta, GA 30303-3104
Phone: | (404)-559-6626 | Phone: | (404) 562-3620
Fax: | (404)-559-4906 | Fax: |

Restricted Routes For All GA Hazmats
Designation Date | Route Description | Restrict Desig 0123456789i ABIMP
03/14/95 | State 400 [Atlanta area] [Noted by Georgia Public Service Commission: “A ban on a portion of 400 due to a tunnel”, but does include specific sections and routes of ban.] | 0

State: Hawaii
State Agency: | No Agency Designated | FMCSA: | HI FMCSA Field Office
POC: |  | FMCSA POC: | HI Motor Carrier State Director
Address: |  | Address: | 300 Ala Moana Blvd, Room 3-306 Box 50206 Honolulu, HI 96850
Phone: |  | Phone: | (808) 541-2700 x301
Fax: |  | Fax: |
No Routes Designated as of 11/14/00

State: Idaho
State Agency: | ID State Police | FMCSA: | ID FMCSA Field Office
POC: | Cpt. Lamont Johnston | FMCSA POC: | ID Motor Carrier State Director
Address: | P.O. Box 700 700 S. Stratford Dr Meridian, ID 83680 | Address: | 3050 Lakeharbor Lane Suite 126 Boise, ID 83703
Phone: | (208)-884-7220 | Phone: | (208) 334-1842
Fax: | (208)-884-7192 | Fax: |

Non-Radioactive Hazmat (NRHM) Routes
ID NRHM Designated Routes
Designation Date | Route Description | Restrict Desig 0123456789i ABIMP
01/01/85 | Interstate 84 from Exit 99 to Missile Base Rd. [Envirosafe site] [Transporters are to exit at Exit 99 onto I84 Business Loop to its intersection with old US 330. Follow US 30 approx. 3/4 mile to Hamilton Rd. Follow Hamilton for 3 miles and turn south onto S51 until its junction with State 78. Exit State 78 onto Missile Base Rd. and follow to Envirosafe waste site.] | A
01/01/85 | US 95 [northbound] from Oregon to Missile Base Road [location of Envirosafe waste site] [Northbound hazardous waste transporters are directed to exit US 95 onto Sommercamp Rd. (STC-3710) to its junction with State 78. Follow State 78 to its junction to Missile Base Rd. that leads to the Envirosafe waste site.] | A

State: Idaho
State Agency: | Fort Hall Reservation | FMCSA: | ID FMCSA Field Office
POC: | Reginald Thorpe | FMCSA POC: | ID Motor Carrier State Director
Address: | Dept. of Public Safety P.O. Box 306 Fort Hall, ID 83203 | Address: | 3050 Lakeharbor Lane Suite 126 Boise, ID 83703
Phone: | (208)-237-0137 | Phone: | (208) 334-1842
Fax: | (208)-237-0049 | Fax: |

Non-Radioactive Hazmat (NRHM) Routes
ID NRHM Designated Routes
Designation Date | Route Description | Restrict Desig 0123456789i ABIMP
01/12/95 | Interstate 15 [within the Fort Hall Indian Reservation] [Designation by Shoshone-Bannock tribe. Only valid within Fort Hall Reservation.] | A
01/12/95 | Interstate 86 [within the Fort Hall Indian Reservation] [Designation by Shoshone-Bannock tribe. Only valid within Fort Hall Reservation.] | A

State: Illinois
State Agency: | IL DOT | FMCSA: | IL FMCSA Field Office
POC: | Larry Wort | FMCSA POC: | IL Motor Carrier State Director
Address: | 3215 Executive Park Drive P.O. Box 19245 Springfield, IL 62794-9245 | Address: | 3250 Executive Park Drive Springfield, IL 62703-4514
Phone: | (217)-782-4974 | Phone: | (217) 492-4608
Fax: | (217)-782-9159 | Fax: |

Non-Radioactive Hazmat (NRHM) Routes
IL NRHM Designated Routes
Designation Date | Route Description | Restrict Desig 0123456789i ABIMP
02/14/86 | Alpine Rd. from Bypass 20 to Riverside Blvd. [Primary Rockford Hazmat route as per City ordinance 1986-18-0 which amended Chapter 11 with Article VII, Division I, Hazardous Materials Routing.] | A
02/14/86 | Auburn St. from Springfield St. to Rock River [Primary Rockford Hazmat route as per City ordinance 1986-18-0 which amended Chapter 11 with Article VII, Division I, Hazardous Materials Routing.] | A
02/14/86 | Blackhawk Park from Magnolia St. to Kishwaukee St. [Primary Rockford Hazmat route as per City ordinance 1986-18-0 which amended Chapter 11 with Article VII, Division I, Hazardous Materials Routing.] | A
02/14/86 | Cedar St. from S. Main St. to Tay [Primary Rockford Hazmat route as per City ordinance 1986-18-0 which amended Chapter 11 with Article VII, Division I, Hazardous Materials Routing.] | A
02/14/86 | Central Ave. from Preston to Riverside Blvd. [Primary Rockford Hazmat route as per City ordinance 1986-18-0 which amended Chapter 11 with Article VII, Division I, Hazardous Materials Routing.] | A
02/14/86 | Charles St. from Longwood to Alpine Rd. [Primary Rockford Hazmat route as per City ordinance 1986-18-0 which amended Chapter 11 with Article VII, Division I, Hazardous Materials Routing.] | A
02/14/86 | College Ave. from Rock River to Kishwaukee St. [Primary Rockford Hazmat route as per City ordinance 1986-18-0 which amended Chapter 11 with Article VII, Division I, Hazardous Materials Routing.] | A
02/14/86 | E. State St. from Second St. to Interstate 90 [Primary Rockford Hazmat route as per City ordinance 1986-18-0 which amended Chapter 11 with Article VII, Division I, Hazardous Materials Routing.] | A
02/14/86 | Fifteenth Ave. from S. Main St. to Kishwaukee St. [Primary Rockford Hazmat route as per City ordinance 1986-18-0 which amended Chapter 11 with Article VII, Division I, Hazardous Materials Routing.] | A
02/14/86 | First Ave. from Kishwaukee St. to Longwood [Primary Rockford Hazmat route as per City ordinance 1986-18-0 which amended Chapter 11 with Article VII, Division I, Hazardous Materials Routing.] | A
02/14/86 | Forest Hills Rd. from N. Second St. to Riverside Blvd. [Primary Rockford Hazmat route as per City ordinance 1986-18-0 which amended Chapter 11 with Article VII, Division I, Hazardous Materials Routing.] | A
02/14/86 | Harrison Ave. from S. Main St. to Mulford Rd. [Primary Rockford Hazmat route as per City ordinance 1986-18-0 which amended Chapter 11 with Article VII, Division I, Hazardous Materials Routing.] | A
02/14/86 | Kilburn Ave. from Auburn St. to W. State St. [Primary Rockford Hazmat route as per City ordinance 1986-18-0 which amended Chapter 11 with Article VII, Division I, Hazardous Materials Routing.] | A
02/14/86 | Kishwaukee St. from Harrison Ave. to Bypass 20 [Primary Rockford Hazmat route as per City ordinance 1986-18-0 which amended Chapter 11 with Article VII, Division I, Hazardous Materials Routing.] | A
02/14/86 | Magnolia St. from Harrison Ave. to Fifteenth Ave. [Primary Rockford Hazmat route as per City ordinance 1986-18-0 which amended Chapter 11 with Article VII, Division I, Hazardous Materials Routing.] | A
02/14/86 | Montague Rd. from S. Pierpont to Bypass 20 [Primary Rockford Hazmat route as per City ordinance 1986-18-0 which amended Chapter 11 with Article VII, Division I, Hazardous Materials Routing.] | A
02/14/86 | Morgan St. from S. Main St. to Rock River [Primary Rockford Hazmat route as per City ordinance 1986-18-0 which amended Chapter 11 with Article VII, Division I, Hazardous Materials Routing.] | A
02/14/86 | Mulford Rd. from Sandy Hollow Rd. to Riverside Blvd. [Primary Rockford Hazmat route as per City ordinance 1986-18-0 which amended Chapter 11 with Article VII, Division I, Hazardous Materials Routing.] | A
02/14/86 | N. Main St. from Riverside Blvd. to Auburn St. [Primary Rockford Hazmat route as per City ordinance 1986-18-0 which amended Chapter 11 with Article VII, Division I, Hazardous Materials Routing.] | A
02/14/86 | Preston St. from Tay to S. Pierpont [Primary Rockford Hazmat route as per City ordinance 1986-18-0 which amended Chapter 11 with Article VII, Division I, Hazardous Materials Routing.] | A
02/14/86 | S. Main St. from Morgan St. to Bypass 20 [Primary Rockford Hazmat route as per City ordinance 1986-18-0 which amended Chapter 11 with Article VII, Division I, Hazardous Materials Routing.] | A
02/14/86 | S. Pierpont from W. State St. to Montague Rd. [Primary Rockford Hazmat route as per City ordinance 1986-18-0 which amended Chapter 11 with Article VII, Division I, Hazardous Materials Routing.] | A
02/14/86 | Sandy Hollow Rd. from Kishwaukee St. to Mulford Rd. [Primary Rockford Hazmat route as per City ordinance 1986-18-0 which amended Chapter 11 with Article VII, Division I, Hazardous Materials Routing.] | A
02/14/86 | Springfield—Riverside St. from W. State St. to Interstate 90 [Primary Rockford Hazmat route as per City ordinance 1986-18-0 which amended Chapter 11 with Article VII, Division I, Hazardous Materials Routing.] | A
02/14/86 | Tay from Cedar St. to Preston St. [Primary Rockford Hazmat route as per City ordinance 1986-18-0 which amended Chapter 11 with Article VII, Division I, Hazardous Materials Routing.] | A
02/14/86 | Twentieth St. from Sandy Hollow Rd. to Twentieth St. Underpass [Primary Rockford Hazmat route as per City ordinance 1986-18-0 which amended Chapter 11 with Article VII, Division I, Hazardous Materials Routing.] | A
02/14/86 | Twenty Third Ave. from Eleventh St. to Twentieth St. [Primary Rockford Hazmat route as per City ordinance 1986-18-0 which amended Chapter 11 with Article VII, Division I, Hazardous Materials Routing.] | A
02/14/86 | US 20 [Business Route throughout the City of Rockford] [Primary Rockford Hazmat route as per City ordinance 1986-18-0 which amended Chapter 11 with Article VII, Division I, Hazardous Materials Routing.] | A
02/14/86 | US 251 [throughout the City of Rockford] [Primary Rockford Hazmat route as per City ordinance 1986-18-0 which amended Chapter 11 with Article VII, Division I, Hazardous Materials Routing.] | A
02/14/86 | W. State St. from Meridian Rd. to Kilburn Ave. [Primary Rockford Hazmat route as per City ordinance 1986-18-0 which amended Chapter 11 with Article VII, Division I, Hazardous Materials Routing.] | A
02/14/86 | Whitman St. from N. Second St. to Kilburn Ave. [Primary Rockford Hazmat route as per City ordinance 1986-18-0 which amended Chapter 11 with Article VII, Division I, Hazardous Materials Routing.] | A

State: Indiana
State Agency: | IN DOT | FMCSA: | IN FMCSA Field Office
POC: | Christine Klika | FMCSA POC: | IN Motor Carrier State Director
Address: | IN Gov. Center North 100 N. Senate Ave. Room N755 Indianapolis, IN 46204 | Address: | 575 N. Pennsylvania St. Room 261 Indianapolis, IN 46204-1520
Phone: | (317) 232-5526 | Phone: | (317) 226-7474
Fax: | (317) 232-0238 | Fax: |

Restricted Routes For All IN Hazmats
Designation Date | Route Description | Restrict Desig 0123456789i ABIMP
06/19/89 | Interstate 65 [within Indianapolis I-465 beltway] | 0
06/19/89 | Interstate 70 [within Indianapolis I-465 beltway] | 0

Non-Radioactive Hazmat (NRHM) Routes
IN NRHM Designated Routes
Designation Date | Route Description | Restrict Desig 0123456789i ABIMP
06/19/89 | Interstate 465 [around the city of Indianapolis] | A

State: Iowa
State Agency: | IA DOT, Motor Vehicle Enfcmnt | FMCSA: | IA FMCSA Field Office
POC: | Cpt. Tom Sever | FMCSA POC: | IA Motor Carrier State Director
Address: | Park Fair Mall 100 Euclid Ave. Des Moines, IA 52306-0473 | Address: | 105 6th St. Ames, IA 50010-6337
Phone: | 515-237-3278 | Phone: | (515) 233-7300
Fax: | 515-237-3387 | Fax: |

Radioactive Hazmat (RAM) Routes
IA RAM Preferred Routes
Designation Date | Route Description | Restrict Desig 0123456789i ABIMP
07/18/88 | Interstate 29 from Missouri to Interstate 80 [I-80 and I-680 are used in lieu of I-29 in the Council Bluffs area when heading North/South per 49 CFR 397.103 (b)] | P
07/18/88 | Interstate 29 from Nebraska to Interstate 680 [I-80 and I-680 are used in lieu of I-29 in the Council Bluffs area when heading North/South per 49 CFR 397.103 (b)] | P
07/18/88 | Interstate 35 from Minnesota to Missouri [Say on I-35/I-80 in lieu of I-235 in the Des Moines area per 49 CFR 397.103 (b)] | P
07/18/88 | Interstate 80 from Interstate 29 to Illinois [Use I-280 or I-80 in the Quad cities. Use I-80 in lieu of I-235 in the Des Moines area. Use I-680 in lieu of I-80 in the Council Bluffs area per IA-NE coordination when heading east/west. Use I-80 and I-680 in the Council Bluffs area in lieu of I-29 when heading north/south] | P
07/18/88 | Interstate 280 from Interstate 80 to Illinois [Use I-280 or I-80 in Quad cities area.] | P
07/18/88 | Interstate 680 from Interstate 80 to Interstate 29 [Used in lieu of I-29 in the Council Bluffs area per 49 CFR 397.103 (b)] | P
07/18/88 | Interstate 680 from Nebraska to Interstate 80 [Use I-680 and I-80 in lieu of I-29 in the Council Bluffs area when heading north/south per 49 CFR 397.103 (b). Use I-680 in lieu of I-80 in the Council Bluffs area when heading east/west per IA-NE coordination.] | P

State: Kansas
State Agency: | Div of Emergency Mgmt | FMCSA: | KS FMCSA Field Office
POC: | Mr. Frank Moussa | FMCSA POC: | KS Motor Carrier State Director
Address: | Technological Hazards Section 2800 SW Topeka Blvd Topeka, KS 66611-1287 | Address: | 3300 S. Topeka Blvd. Suite 1 Topeka, KS 66611-2237
Phone: | (785) 274-1408 | Phone: | (916) 267-7286
Fax: | (785) 274-1426 | Fax: |
No Routes Designated as of 11/14/00

State: Kentucky
State Agency: | Dept. of Vehicle Regulation | FMCSA: | KY FMCSA Field Office
POC: | Commissioner Ed Logsdon | FMCSA POC: | KY Motor Carrier State Director
Address: | 501 High St., No. 308 Frankfort, KY 40622 | Address: | Federal Bldg. & US Courthouse 330 W. Broadway Frankfort, KY 40601
Phone: | (502)-564-7000 | Phone: | (502) 223-6779
Fax: | (502)-564-6403 | Fax: |

Restricted Routes For All KY Hazmats
Designation Date | Route Description | Restrict Desig 0123456789i ABIMP
01/01/88 | Interstate 75 from Interstate 275 to Ohio [Ban has been currently lifted due to construction to northbound I275. This route will be evaluated again to reinstate restriction after construction is complete.] | 0

Radioactive Hazmat (RAM) Routes
KY RAM Restricted Routes
Designation Date | Route Description | Restrict Desig 0123456789i ABIMP
11/02/88 | Interstate 264 from Interstate 64 [West of Louisville] to Interstate 71 [East of Louisville] | 7
11/02/88 | Interstate 471 [in Newport area] [Use the preferred route I-275 instead] | 7

KY RAM Preferred Routes
Designation Date | Route Description | Restrict Desig 0123456789i ABIMP
11/02/88 | Interstate 24 [Western KY North/South Route] | P
11/02/88 | Interstate 64 [East/West route] | P
11/02/88 | Interstate 65 [Central KY North/South route] | P
11/02/88 | Interstate 71 from Indiana [in Louisville] to Interstate 275 [southwest of Covington] | P
01/01/88 | Interstate 275 from Interstate 75 to Ohio [Preferred route origination date 11/2/88] | A,P

Non-Radioactive Hazmat (NRHM) Routes
KY NRHM Designated Routes
Designation Date | Route Description | Restrict Desig 0123456789i ABIMP
01/01/88 | Interstate 275 from Interstate 75 to Ohio [Preferred route origination date 11/2/88] | A,P

State: Louisiana
State Agency: | LA State Police Transportation Dept. | FMCSA: | LA FMCSA Field Office
POC: | Lt. Tim Sharkey | FMCSA POC: | LA Motor Carrier State Director
Address: | Environmental Safety Section P.O. Box 66614, Mail Slip 21 Baton Rouge, LA 70896-6614 | Address: | 5304 Flanders Drive Suite A Baton Rouge, LA 70808-4348
Phone: | (225)-295-8550 | Phone: | (225) 757-7640
Fax: | (225)-295-8554 | Fax: |

Restricted Routes For All LA Hazmats
Designation Date | Route Description | Restrict Desig 0123456789i ABIMP
08/01/99 | Caddo and Bessier Parish [All Roads] [Except for carriers making local pickups or deliveries, carriers using the route to reach a local pickup or delivery point, or carriers traveling to or from their terminal facilities or carriers using the route to reach maintenance or service facilities within the boundaries of the parish, no carrier shall transport hazardous materials in Caddo or Bessier Parish, except on the designated routes. [R.S. 32:1521 Motor Vehicles-Traffic Regulations]] | 0
03/01/95 | Harvey Tunnel [of Jefferson Parish on US90-B] | 0
08/01/99 | State 1 from State 3132 to Interstate 220 [R.S. 32:1521 Motor Vehicles—Traffic Regulations] | 0
08/01/99 | State 73 from Interstate 10 to State 74 [R.S. 32:1521 Motor Vehicles—Traffic Regulations] | 0
03/01/95 | State 73 [In Ascension Parish] from Interstate 10 to State 74 [and within 300 yards or less of any building used as a public or private elementary or secondary school except for carriers making local deliveries on this portion of State 73.] | 0
03/01/95 | Tunnel Boulevard Tunnel [in Terrebonne Parish (Houma)] | 0
08/01/99 | US 71 from Interstate 220 to Interstate 20 [R.S. 32:1521 Motor Vehicles—Traffic Regulations] | 0
08/01/99 | US 171 from State 3132 to US 80 [R.S. 32:1521 Motor Vehicles—Traffic Regulations] | 0

Non-Radioactive Hazmat (NRHM) Routes
LA NRHM Designated Routes
Designation Date | Route Description | Restrict Desig 0123456789i ABIMP
08/01/99 | Interstate 20 from Bossier-Caddo [parish boundary] to Bossier-Webster [parish boundary] [R.S. 32:1521 Caddo-Bossier designated route] | A
08/01/99 | Interstate 20 from Texas to Caddo-Bossier [parish boundary] [R.S. 32:1521 Caddo-Bossier designated route] | A
08/01/99 | Interstate 49 from Caddo-DeSoto [parish boundary] to Interstate 20 [R.S. 32:1521 Caddo-Bossier designated route] | A
08/01/99 | Interstate 220 from Bossier-Caddo [parish boundary] to Interstate 20 [R.S. 32:1521 Caddo-Bossier designated route] | A
08/01/99 | Interstate 220 from Interstate 20 to Caddo-Bossier [parish boundary] [R.S. 32:1521 Caddo-Bossier designated route] | A
08/01/99 | State 1 from Caddo-Red River [parish boundary] to State 3132 [R.S. 32:1521 Caddo-Bossier designated route] | A
08/01/99 | State 1 from Interstate 220 to Arkansas [R.S. 32:1521 Caddo-Bossier designated route] | A
08/01/99 | State 2 from Caddo-Bossier [parish boundary] to Bossier-Webster [parish boundary] [R.S. 32:1521 Caddo-Bossier designated route] | A
08/01/99 | State 2 from State 1 to Caddo-Bossier [parish boundary] [R.S. 32:1521 Caddo-Bossier designated route] | A
08/01/99 | State 3 [Benton Road] from Arkansas to Interstate 20 [R.S. 32:1521 Caddo-Bossier designated route] | A
08/01/99 | State 511 [Jimmie Davis Highway] from US 71 to State 3132 [R.S. 32:1521 Caddo-Bossier designated route] | A
08/01/99 | State 3105 [Airline Drive] from Arkansas to US 71 [R.S. 32:1521 Caddo-Bossier designated route] | A
08/01/99 | US 71 from Bossier-Red River [parish boundary] to Interstate 20 [R.S. 32:1521 Caddo-Bossier designated route] | A
08/01/99 | US 71 from Interstate 229 to Arkansas [R.S. 32:1521 Caddo-Bossier designated route] | A
08/01/99 | US 79 from Texas to Interstate 20 [R.S. 32:1521 Caddo-Bossier designated route] | A
08/01/99 | US 80 from Texas to City of Greenwood [R.S. 32:1521 Caddo-Bossier designated route] | A
08/01/99 | US 171 from Caddo-DeSoto [parish boundary] to State 3132 [R.S. 32:1521 Caddo-Bossier designated route] | A

State: Maine
State Agency: | Maine State Police | FMCSA: | ME FMCSA Field Office
POC: | John Fraser | FMCSA POC: | ME Motor Carrier State Director
Address: | Department of Public Safety 20 State House Station Augusta, ME 04333 | Address: | Federal Bldg & US Post Office 40 Western Ave., Room 601 Augusta, ME 04330
Phone: | (207)-624-8939 | Phone: | (207) 622-8358
Fax: | (207)-624-8945 | Fax: |
No Routes Designated as of 11/14/00

State: Maryland
State Agency: | MD Transportation Authority Police | FMCSA: | MD FMCSA Field Office
POC: | Capt. Martin Uzarowski | FMCSA POC: | MD Motor Carrier State Director
Address: | Comm Vehicle Safety Division 15 Turnpike Dr. Perryville, MD 21903 | Address: | The Rotunda 711 West 40th St., Suite 220 Baltimore, MD 21211-2187
Phone: | (410) 575-6955 | Phone: | (410) 962-2889
Fax: | (410) 378-8123 | Fax: |

Restricted Routes For All MD Hazmats
Designation Date | Route Description | Restrict Desig 0123456789i ABIMP
01/25/80 | Baltimore Harbor Tunnel [I-895] | 0
01/25/80 | Fort McHenry Tunnel [I95] | 0
01/25/80 | Francis Scott Key Bridge [State 695] | 0
01/25/80 | Harry W. Nice Memorial Bridge [Located on US Route 301] | 0
01/25/80 | Thomas J. Hatem Mem. Bridge [US Route 40] | 0
01/25/80 | W. P. Lane, Jr. Mem. Bridge [Located on US 50/301] | 0

State: Maryland
State Agency: | MD State Highway Administration | FMCSA: | MD FMCSA Field Office
POC: | Ms. Dolores Strausser | FMCSA POC: | MD Motor Carrier State Director
Address: | Motor Carrier Division 7491 Connelley Dr. Hanover, MD 21076 | Address: | The Rotunda 711 West 40th St., Suite 220 Baltimore, MD 21211-2187
Phone: | (410) 582-5734 | Phone: | (410) 962-2889
Fax: | (410) 787-2863 | Fax: |

Restricted Routes For All MD Hazmats
Designation Date | Route Description | Restrict Desig 0123456789i ABIMP
01/25/80 | J.F.K. Memorial Highway [I-95] | 0

Non-Radioactive Hazmat (NRHM) Routes
MD NRHM Designated Routes
Designation Date | Route Description | Restrict Desig 0123456789i ABIMP
08/16/95 | Interstate 495 [NOTE: Restricts all vehicles carrying hazmats to right two lanes.] | A

State: Massachusetts
State Agency: | MA Highway Department | FMCSA: | MA FMCSA Field Office
POC: | Mr. Harindra Vohra, P.E. | FMCSA POC: | MA Motor Carrier State Director
Address: | Ten Park Plaza Boston, MA 02116-3973 | Address: | Transportation Systems Center 55 Broadway, Room I-35 Cambridge, MA 02142
Phone: | (617) 973-7362 | Phone: | (617) 494-2770
Fax: | (617) 973-8037 | Fax: |

Restricted Routes For All MA Hazmats
Designation Date | Route Description | Restrict Desig 0123456789i ABIMP
11/13/94 | Callahan Tunnel [Route 1A Northbound under Boston Inner Harbor] | 0
11/13/94 | Charlestown Tunnel from Interstate 93 to Charlestown | 0
11/13/94 | Interstate 90 [Prudential Tunnel] from Dalton St. to Clarendon St. [including interchange 22] | 0
12/01/95 | Interstate 90 [Ted Williams Tunnel under Boston Harbor] | 0
11/13/94 | Interstate 93 [Dewey Square Tunnel] from Sumner St. to Kneeland St. | 0
11/13/94 | Sumner Tunnel [Route 1A Southbound under Boston Inner Harbor] | 0
11/13/94 | US 1 [Northbound and Southbound Tunnels in Boston] | 0

State: Michigan
State Agency: | Michigan DOT | FMCSA: | MI FMCSA Field Office
POC: | Mr. James R. DeSana, Director | FMCSA POC: | MI Motor Carrier State Director
Address: | 425 West Ottawa P.O. Box 30050 Lansing, MI 48909 | Address: | Federal Building, Room 205 315 West Allegan Street Lansing, MI 48933
Phone: | (517)-373-1884 | Phone: | (517) 377-1866
Fax: | (517)-373-0176 | Fax: |

Restricted Routes For All MI Hazmats
Designation Date | Route Description | Restrict Desig 0123456789i ABIMP
03/08/95 | International Bridge [I75] [All placarded vehicles require an escort. Contact Operations Supervisor at (906)-635-5255 before crossing. Sault Ste. Marie, MI to Sault Ste. Marie, Ontario.] | 0
03/08/95 | Mackinac Bridge [I75] [Mackinac City to St. Ignace. All placarded loads require an escort by the Mackinac Bridge Authority. Phone (906) 643-7600.] | 0

Radioactive Hazmat (RAM) Routes
MI RAM Restricted Routes
Designation Date | Route Description | Restrict Desig 0123456789i ABIMP
01/01/29 | Ambassador Bridge [Detroit] from Porter St. to Canada [Windsor] [Phone (313)-849-5244] | 1,3,7,8
03/08/95 | Blue Water Bridge [I69] [Port Huron, MI to Sarnia, Ontario. NOTE: In addition to the listed restrictions, Pyrophoric Liquids prohibited. Contact Michigan Dept. of Transportation for specific restrictions. (810)-984-3131] | 1,5,7,9
01/01/30 | Windsor Tunnel [Detroit] from Jefferson Ave. to Canada [Windsor] [Phone: (313)-567-4422] | 1,3,7,8

Non-Radioactive Hazmat (NRHM) Routes
MI NRHM Restricted Routes
Designation Date | Route Description | Restrict Desig 0123456789i ABIMP
01/01/29 | Ambassador Bridge [Detroit] from Porter St. to Canada [Windsor] [Phone (313)-849-5244] | 1,3,7,8
03/08/95 | Blue Water Bridge [I69] [Port Huron, MI to Sarnia, Ontario. NOTE: In addition to the listed restrictions, Pyrophoric Liquids prohibited. Contact Michigan Dept. of Transportation for specific restrictions. (810)-984-3131] | 1,5,7,9
01/01/90 | Interstate 696 [County of Oakland] from State Route M-10 to Interstate 75 | 1,3
01/01/64 | State Route M-10 [Detroit] from 8 Mile Rd [South] to Wyoming Rd | 1,3
01/01/58 | State Route M-10 [Detroit] from Howard St. to Woodward Ave. [Under Cobo Hall (approx 1 mile)] | 1,3
10/03/98 | State Route M-59 [Utica] [1.1 mile from either direction of the Mound Rd exit] | 1,3
01/01/30 | Windsor Tunnel [Detroit] from Jefferson Ave. to Canada [Windsor] [Phone: (313)-567-4422] | 1,3,7,8

State: Minnesota
State Agency: | MN DOT—OCMS | FMCSA: | MN FMCSA Field Office
POC: | Michael Ritchie | FMCSA POC: | MN Motor Carrier State Director
Address: | 1110 Centre Point Curve GNB Building—MS 420 Mendota Heights, MN 55120 | Address: | Galtier Plaza, Box 75 175 E. 5th St., Suite 500 St. Paul, MN 55101-2904
Phone: | (651) 405-6120 | Phone: | (612) 291-6150
Fax: | (651) 405-6082 | Fax: |

Non-Radioactive Hazmat (NRHM) Routes
MN NRHM Restricted Routes
Designation Date | Route Description | Restrict Desig 0123456789i ABIMP
03/09/95 | Lowry Hill Tunnel [I94] | 1,3

State: Mississippi
State Agency: | MS Emergency Management Svcs | FMCSA: | MS FMCSA Field Office
POC: | Robert Latham | FMCSA POC: | MS Motor Carrier State Director
Address: | P.O. Box 4501 Jackson, MS 39296-4501 | Address: | 666 North St. Suite 105 Jackson, MS 39202-3199
Phone: | (601)-352-9100 | Phone: | (601) 965-4219
Fax: | (601)-352-8314 | Fax: |

Non-Radioactive Hazmat (NRHM) Routes
MS NRHM Designated Routes
Designation Date | Route Description | Restrict Desig 0123456789i ABIMP
02/06/94 | Utilize interstate system as the primary routes or transporting NRHM. | A

State: Missouri
State Agency: | No Agency Designated | FMCSA: | MO FMCSA Field Office
POC: |  | FMCSA POC: | MO Motor Carrier State Director
Address: |  | Address: | 209 Adams St. Jefferson City, MO 65101
Phone: |  | Phone: | (573) 636-3246
Fax: |  | Fax: |
No Routes Designated as of 11/14/00

State: Montana
State Agency: | Montana DOT | FMCSA: | MT FMCSA Field Office
POC: | Mr. Drew Livesay | FMCSA POC: | MT Motor Carrier State Director
Address: | Motor Carrier Services Div. P.O. Box 4639 Helena, MT 59620-0801 | Address: | 2880 Skyway Drive Helena, MT 59602-1230
Phone: | (406)-444-6146 | Phone: | (406) 449-5304 x223
Fax: | (406)-444-7670 | Fax: |

Restricted Routes For All MT Hazmats
Designation Date | Route Description | Restrict Desig 0123456789i ABIMP
09/26/94 | US 191 [through and around the Yellowstone Park area] [This route under the jurisdiction of the Park Service, not the State of Montana. Contact Yellowstone Visitor Services Office 307-344-2115.] | 0

State: Nebraska
State Agency: | Nebraska State Patrol | FMCSA: | NE FMCSA Field Office
POC: | Major Bryan Tuma | FMCSA POC: | NE Motor Carrier State Director
Address: | P.O. Box 94907 Lincoln, NE 68509-4907 | Address: | Federal Building, Room 220 100 Centennial Mall North Lincoln, NE 68508
Phone: | (402) 479-4950 | Phone: | (402) 437-5986
Fax: | (402) 479-4002 | Fax: |

Radioactive Hazmat (RAM) Routes
NE RAM Preferred Routes
Designation Date | Route Description | Restrict Desig 0123456789i ABIMP
08/03/88 | Interstate 680 from Interstate 80 to Iowa [Use in lieu of I-80 in the Omaha area.] | P

State: Nevada
State Agency: | No Agency Designated | FMCSA: | NV FMCSA Field Office
POC: |  | FMCSA POC: | NV Motor Carrier State Director
Address: |  | Address: | 705 N. Plaza St. Suite 220 Carson City, NV 89701-4015
Phone: |  | Phone: | (775) 687-5335
Fax: |  | Fax: |
No Routes Designated as of 11/14/00

State: New Hampshire
State Agency: | NH Dept. of Safety | FMCSA: | NH FMCSA Field Office
POC: | Commissioner Richard Flynn | FMCSA POC: | NH Motor Carrier State Director
Address: | 10 Hazen Dr. Concord, NH 03305 | Address: | 279 Pleasant St. Suite 202 Concord, NH 03301-2509
Phone: | (603) 271-2792 | Phone: | (603) 225-1626
Fax: | (603) 271-3903 | Fax: |
No Routes Designated as of 11/14/00

State: New Jersey
State Agency: | Ports Terminals & Freight Svcs | FMCSA: | NJ FMCSA Field Office
POC: | Theodore H. Matthews, Manager | FMCSA POC: | NJ Motor Carrier State Director
Address: | NJ Dept of Transportation 1035 Parkway Ave (CN-600) Trenton, NJ 08625 | Address: | 840 Bear Tavern Rd. Suite 310 West Trenton, NJ 08628-1019
Phone: | (609) 530-8026 | Phone: | (609) 637-4222
Fax: | (609) 530-4549 | Fax: |
No Routes Designated as of 11/14/00

State: New Mexico
State Agency: | NM State Hwy & Transportation | FMCSA: | NM FMCSA Field Office
POC: | Richard Montoya | FMCSA POC: | NM Motor Carrier State Director
Address: | General Office P.O. Box 1149 Santa Fe, NM 87504-1149 | Address: | 2400 Louisiana Blvd., NE AFC-5, Suite 520 Albuquerque, NM 87110-4316
Phone: | (505)-827-5549 | Phone: | (505) 346-7858
Fax: | (505)-989-4983 | Fax: |

Radioactive Hazmat (RAM) Routes
NM RAM Preferred Routes
Designation Date | Route Description | Restrict Desig 0123456789i ABIMP
04/30/99 | Eastern WIPP Route [From the Texas-New Mexico border [MP 373.51] west on I-40 through Tucumcari to the junction of I-40 and US 54 [MP 276.836, Exit 275] at Santa Rosa; west on US 54 through Pastura to the junction of US 54 and US 285 at Vaughn; south on US 285 through Roswell (along the Roswell Relief Route) [MP 119.930] and Artesia to the junction of US 285 and US 62/180[MP 31.180] in Carlsbad; east on US 62/180 to the WIPP north access road [MP 64.652]. If and when Artesia and Carlsbad Relief Routes are available, they shall be used instead of the route through each respective city. Currently posted “truck routes” shall not be used. Note: This designation is based on 18 NMAC 20.9 (Designation of Highway Routes for the Transport of Radioactive Materials)] | P
04/30/99 | Los Alamos National Laboratory [From the Los Alamos National Laboratory in Los Alamos County [Tech Area 54, MP 0.000] east on the Los Alamos Truck Route to the junction of the Los Alamos Truck Route and NM 4; east on NM 4 to the junction of NM 4 and NM 502; [MP 68.186] east on NM 502 to the junction of NM 502 [18.081] and US 84/285 at Pojoaque; south on US 84/285 [MP 181.251] to the junction of US 84/285 and NM 599; [MP 167.443] south on NM 599 to the junction of NM 599 and I-25; north on I-25 to the junction of I-25 and US 285 [MP 290.809, Exit 290]; south on US 285 through Clines Corners, Encino, Vaughn, Roswell (along the Roswell Relief Route) and Artesia to the junction of US 285 and US 62/180 [MP 31.180] in Carlsbad; east on US 62/180 to the WIPP north access. If and when the Artesia and Carlsbad Relief Routes are available, they shall be used instead of the route through each respective city. Currently posted “truck routes” shall not be used, except for the Los Alamos Truck Route as stated above. Note: This designation is based on 18 NMAC 20.9 (Designation of Highway Routes for the Transport of Radioactive Materials)] | P
04/30/99 | Northern WIPP Route [From the Colorado-New Mexico border [MP 462.124] south on I-25 through Raton, Springer, and Las Vegas to the junction of I-25 and US 285 [283.800, Exit 290] near Santa Fe; south on US 285 through Clines Corners, Encino, Vaughn, Roswell (along the Roswell Relief Route) [MP 119.930] and Artesia to the junction of US 285 and US 62/180 [MP 31.180] in Carlsbad; east on us 62/180 to the WIPP north access road [MP 64.652]. If and when Artesia and Carlsbad Relief Routes are available, they shall be used instead of the route through each respective city. Currently posted “truck routes” shall not be used. Note: This designation is based on 18 NMAC 20.9 (Designation of Highway Routes for the Transport of Radioactive Materials)] | P
04/30/99 | Southern WIPP Route [From the Texas-New Mexico border [MP 0.000] north on US 285 through Loving to the Junction on US 285 and US 62/180 [MP 31.180] in Carlsbad; east on US 62/180 to the WIPP north access road [MP 64.652]. If and when a south Carlsbad Relief Route is available, it shall be used instead of the route through the city. Currently posted “truck routes” shall not be used. Note: This designation is based on 18 NMAC 20.9 (Designation of Highway Routes for the Transport of Radioactive Materials)] | P
04/30/99 | Western WIPP Route [From the Arizona-New Mexico border [MP 0.000] east on I-40 through Gallup, Thoreau, Grants, Albuquerque and Moriarty to the junction of I-40 and US 285 [MP 218.064, Exit 218] at Clines Corners; south on US 285 through Encino, Vaughn, Roswell (along the Roswell Relief Route) [MP 119.930] and Artesia to the junction of US 285 and US 62/180 [MP 31.180] in Carlsbad; east on US 62/180 to the WIPP north access road [MP 64.652]. If and when Artesia and Carlsbad Relief Routes are available, they shall be used instead of the route through each respective city. Currently posted “truck routes” shall not be used. Note: This designation is based on 18 NMAC 20.9 (Designation of Highway Routes for the Transport of Radioactive Materials)] | P

Non-Radioactive Hazmat (NRHM) Routes
NM NRHM Designated Routes
Designation Date | Route Description | Restrict Desig 0123456789i ABIMP
02/18/91 | Interstate 10 [within Las Cruces city Limits] | A
02/18/91 | Interstate 25 [within Las Cruces city Limits] | A
02/18/91 | US 70 from East City Limits [Las Cruces near Organ] to Interstate 25 | A

State: New York
State Agency: | New York City Fire Dept. | FMCSA: | NY FMCSA Field Office
POC: | Lt. James Yakimovich | FMCSA POC: | NY Motor Carrier State Director
Address: | Bureau of Operations 9 MetroTech Center Brooklyn, NY 11201-3587 | Address: | Leo O' Brien Federal Bldg. Clinton & N. Pearl St., 9th Fl Albany, NY 12207
Phone: | (718) 999-1060 | Phone: | (518) 431-4145 x315
Fax: |  | Fax: |

Restricted Routes For All NY Hazmats
Designation Date | Route Description | Restrict Desig 0123456789i ABIMP
01/06/95 | City of New York Hazmat Restrictions [For shipments of Hazardous Cargo through the City without pickup or delivery within the City, to piers, airports, and shipping terminals, hazardous cargo transportation prohibited by City, State, Federal law or regulation shall not be permitted to enter or pass through New York City, except where specifically authorized by authorized governmental agencies and the Fire Commissioner. Such shipments shall conform to routes, times, and safety conditions specified by the Fire Commissioner. (Such designated routes are listed here in the National Hazardous Material Route Registry) Motor Vehicles conforming to Fire Department specifications and under Fire Department permit may be used to transport allowable Hazardous Cargo in accordance with Chapter 4 of Title 27 Administrative Code and the rules and regulations of the Fire Commissioner without conformance to the routing, time, escorts, and other restrictions and such “permitted” vehicles must be used for deliveries for storage and/or use or for pickup in the City. Hazardous cargo shipments shall transit the City only during non-rush hours. Shipments of explosives are permitted only during daylight hours, except that shipments at night may be allowed in individual cases for escorted shipments as pursuant to Administrative Code 27-4019(b). Times for shipments are as follows: Monday through Friday: For explosives, and prohibited materials for which specific permission has been given by Fire Department: 10:00 A.M. to 3:00 P.M. and 7:00 P.M. to 6:00 A.M. For all other hazardous cargo: 9:00 A.M. to 4:00 P.M. and 6:00 P.M. to 7:00 A.M. Saturday, Sunday, and Holidays: As traffic conditions permit, consistent with the rules and regulations of government agencies and/or authorities having jurisdiction.] | 0

Non-Radioactive Hazmat (NRHM) Routes
NY NRHM Restricted Routes
Designation Date | Route Description | Restrict Desig 0123456789i ABIMP
01/06/95 | Verrazano Bridge [Contact the FDNY (718) 403-1580 for more information.] | 1

NY NRHM Designated Routes
Designation Date | Route Description | Restrict Desig 0123456789i ABIMP
01/06/95 | City of New York Escort Rendezvous Points [Escorts by a fully manned fire department engine company shall be required for all permitted Class “A”, Class “B”, and Class “C” explosives (over 50 pounds in weight) from point of entry into the City until its exit from the City pursuant to 27-4034(j) Administrative Code of the City of New York. The fire commissioner reserves the right to require escorts for any hazardous cargo shipment when he deems necessary. Notification of arrival of explosives shipments shall be made 48 hours in advance by calling the notification desk in the chief of department's office (718) 403-1580. Shipments from North Shore Long Island: Meet at safety area of Westbound Long Island Expressway (I-495) on the right side between Lakeville Road and Little Neck Parkway. Shipments from South Shore Long Island: Meet at northwest corner of intersection of Sunrise Highway (State 27) between Hook Creek Blvd. and 246th Street. From Upstate New York or New England via New England Thruway (I-95): exit at Connors Street exit, proceed on New England Thruway Service Road to Connors Street to meet Fire Department escort. From Upstate New York and New England via New York Thruway (I-87): exit into Service Area of Major Deegan Expressway located between Westchester County line and the East 233rd street exit of the expressway, to meet Fire Department escort From NJ via Goethals, Bayonne, Outerbridge Crossing, and George Washington Bridges: Meet at Adm. Bldg—Toll Plaza From J.F.K. International Airport: Meet in front of the Major Robert Fitzgerald Building #111 on the inbound service road of the Federal Circle From LaGuardia Airport: Meet at Marine Air Terminal P.A.N.Y.N.J. Police Building, entering at 82nd Street entrance to LaGuardia Airport.] | B
01/06/95 | NYC Route 1: From NJ to western Westchester County and upstate New York [George Washington Bridge (upper level) to Washington Expressway (without detour on City streets) via the Alexander Hamilton Bridge to the Major Deegan Expressway to New York Thruway (I-87). Note: Reverse routing permitted. Rendezvous with escort, if required.] | A
01/06/95 | NYC Route 2: From NJ to eastern Westchester County, upstate New York, and New England [George Washington Bridge (upper level) to Washington Expressway (without detour on City streets) via the Alexander Hamilton Bridge directly to Cross Bronx Expressway (I-95) to Bruckner Interchange, continue on Bruckner Expressway to New England Thruway (I-95). Note: Reverse routing permitted. Rendezvous with escort if required.] | A
01/06/95 | NYC Route 3: From NJ to Nassau and Suffolk Counties [NYC Route 3(i): George Washington Bridge (upper level) via Washington Expressway (without detour on City streets) via the Alexander Hamilton Bridge directly to Cross Bronx Expressway (I-95), east on Cross Bronx Expressway (I-95) to Throgs Neck Bridge, south across Throgs Neck Bridge to Clearview Expressway (I-295) to Long Island Expressway, east on Long Island Expressway (I-495) to Nassau and/or Suffolk Counties. NYC Route 3(ii): Use either 3(ii)A, 3(ii)B, or 3(ii)C THEN, East on Staten Island Expressway (I-278) to Verrazano Bridge, cross upper level of Verrazano Bridge to Brooklyn Queens Expressway (I-278), then east on Brooklyn Queens Expressway (I-278) to Long Island Expressway (I-495), then east on Long Island Expressway (I-495) to Nassau and/or Suffolk Counties. NYC Route 3(ii)A: Outerbridge crossing to West Shore Expressway, North on West Shore Expressway (State 440) to Staten Island Expressway (I-278) NYC Route 3(ii)B: Bayonne Bridge to Willowbrook Expressway (State 440) south to Staten Island Expressway (I-278) NYC Route 3(ii)C: Goethals Bridge to Staten Island Expressway (I-278) Note: Reverse routing permitted. Rendezvous with escort if required. Hazardous cargo requiring escort (i.e. explosives) shall use route via George Washington Bridge only to minimize travel time within the city. Explosives are prohibited on Verrazano Bridge. ] | A
01/06/95 | NYC Route 4: From Upstate NY or New England to Nassau and Suffolk Counties [NYC Route 4(i): New England Thruway (I-95) (to Connors Street exit to meet escort if required), to Bruckner Expressway (I-95) to Throgs Neck Expressway (I-295), to Throgs Neck Bridge, to Clearview Expressway (I-295), to Long Island Expressway (I-495), east on Long Island Expressway to City Line. NYC Route 4(ii): New York State Thruway (I-87) south to Major Deegan Expressway (I-87), to Cross Bronx Expressway (I-95), east to Bruckner Expressway (I-278) to Throgs Neck Bridge, to Clearview Expressway (I-295), to Long Island Expressway (I-495), east on Long Island Expressway to City Line. Note 1: Reverse routing permitted. Rendezvous with escort if required. See NYC Route 25 for alternate routes.] | A
01/06/95 | NYC Route 5: From NJ to LaGuardia Airport via Goethals Bridge [Goethals Bridge to Staten Island Expressway (I-278) to Verrazano Narrows Bridge (upper level) to Brooklyn Queens Expressway (I-278) to Astoria Blvd. (exit 39), east to 82nd Street then north on 82nd Street to LaGuardia Airport. Note: Reverse routing permitted. Rendezvous with escort if required. Explosives prohibited on Verrazano Bridge] | A
01/06/95 | NYC Route 6: From NJ to LaGuardia Airport via Outerbridge Crossing [Outerbridge Crossing to West Shore Expressway (State 440) to Staten Island Expressway (I-278) east to Verrazano Narrows Bridge (upper level) to Brooklyn Queens Expressway (I-278) to Astoria Blvd. (exit 39), east to 82nd Street then north on 82nd Street to LaGuardia Airport. Note: Reverse routing permitted. Rendezvous with escort if required. Explosives prohibited on Verrazano Bridge] | A
01/06/95 | NYC Route 7: From NJ to LaGuardia Airport via George Washington Bridge [George Washington Bridge (upper level) via Washington Expressway (without detour on City streets) via the Alexander Hamilton Bridge directly to Cross Bronx Expressway (I-95), east on Cross Bronx Expressway (I-95) to Throgs Neck Bridge, south across Throgs Neck Bridge to Clearview Expressway (I-295) to Long Island Expressway (I-495), west on L.I.E. (I-495) to Van Wyck Expressway (I-678), north on Van Wyck Expressway (I-678) to Northern Blvd. (25A), west on Northern Blvd. to Astoria Blvd. West on Astoria Blvd to 82nd Street, north on 82nd Street to LaGuardia Airport. Note: See NYC Route 25 for alternate routes. Rendezvous with escort if required. Reverse routing permitted.] | A
01/06/95 | NYC Route 8: From Long Island to LaGuardia Airport [NYC Route 8(i): Long Island Expressway (I-495) West to Van Wyck Expressway (I-678), North to Northern Blvd. (25-A), West to Astoria Blvd., Astoria Blvd. to 82nd Street, North on 82nd Street to LaGuardia Airport NYC Route 8(ii): Long Island Expressway (I-495) West to Brooklyn Queens Expressway (I-278) East to Astoria Blvd. (Exit 39) East to 82nd Street, North on 82nd to LaGuardia Airport NYC Route 8(iii): West on Sunrise Highway (State 27) to North Conduit Blvd. to Van Wyck Expressway (I-678), North on Van Wyck Expressway (I-678) to Northern Blvd. (25-A), West to Astoria Blvd., Astoria Blvd. to 82nd Street, North on 82nd Street to LaGuardia Airport NYC Route 8(iv): West on Sunrise Highway (State 27) to North Conduit Blvd. to Van Wyck Expressway (I-678), North on Van Wyck Expressway (I-678) to Long Island Expressway (I-495), West to Brooklyn Queens Expressway (I-278), East to Astoria Blvd. (Exit 39), East to 82nd Street, North on 82nd Street to LaGuardia Airport Note: Rendezvous for escort if required Reverse routing permitted.] | A
01/06/95 | NYC Route 9: From New England or upper New York State to LaGuardia Airport [NYC Route 9(i): New England Thruway (I-95) south (to Connors Street exit to meet escort, if required), to Bruckner Expressway (I-95) to Throgs Neck Expressway (I-295), via Throgs Neck Bridge to Clearview Expressway (I-295) to Long Island Expressway (I-495), west to Brooklyn Queens Expressway (I-278) east, to Astoria Blvd. (exit 39), east to 82nd Street, then north on 82nd Street to LaGuardia Airport NYC Route 9(ii): New York State Thruway (I-87) south to Major Deegan Expressway (I-87) to Cross Bronx Expressway (I-95) east to Bruckner Expressway (I-278) to Throgs Neck Bridge, to Clearview Expressway (I-295), to Long Island Expressway (I-495) west, to Brooklyn Queens Expressway (I-278) east, to Astoria Blvd. (Exit 39), east to 82nd Street, then north on 82nd Street to LaGuardia Airport Note: Rendezvous with escort if required. Reverse routing permitted. See NYC Route 25 for alternate routes.] | A
01/06/95 | NYC Route 10: From New Jersey to J.F.K. International Airport via Goethals Bridge [From New Jersey via Goethals Bridge to Staten Island Expressway (I-278) to Verrazano-Narrows Bridge (upper level), Brooklyn Queens Expressway (I-278) east to Long Island Expressway (I-495), east to Van Wyck Expressway (I-678), south on Van Wyck Expressway (I-678) to J.F.K. International Airport Note: Rendezvous with escort if required. Reverse routing permitted. Explosives prohibited on Verrazano Bridge.] | A
01/06/95 | NYC Route 11: From New Jersey to J.F.K. International Airport via Outerbridge Crossing [From New Jersey via Outerbridge Crossing to West Shore Expressway (State 440) to Staten Island Expressway (I-278) to Verrazano-Narrows Bridge (upper level), to Brooklyn Queens Expressway east (I-278) to Long Island Expressway (I-495), East on Long Island Expressway (I-495) to Van Wyck Expressway (I-678), South on Van Wyck Expressway (I-678) to J.F.K. International Airport Note: Rendezvous with escort if required. Reverse routing permitted. Explosives prohibited on Verrazano Bridge.] | A
01/06/95 | NYC Route 12: From New Jersey to J.F.K. International Airport via George Washington Bridge (upper level) [From New Jersey via George Washington Bridge (upper level), via Washington Expressway (without detouring onto City streets) via the Alexander Hamilton Bridge directly to Cross Bronx Expressway (I-95), east on Cross Bronx Expressway (I-95), to Throgs Neck Bridge, south across Throgs Neck Bridge to Clearview Expressway (I-295) to Long Island Expressway (I-495), west to Van Wyck Expressway (I-678), south on Van Wyck Expressway (I-678) to J.F.K. International Airport Note: Rendezvous with escort if required. Reverse routing permitted. See NYC Route 25 for alternate routes.] | A
01/06/95 | NYC Route 13: From New England and upper New York State to J.F.K. International Airport [NYC Route 13(i): New England Thruway (I-95), south (to Connors Street exit to meet escort, if required) to Bruckner Expressway (I-95), to Throgs Neck Expressway (I-295), via Throgs Neck Bridge to Clearview Expressway (I-295), to Long Island Expressway (I-495) west on Long Island Expressway (I-495) to Van Wyck Expressway (I-678), south on Van Wyck Expressway (I-678), to J.F.K. International Airport NYC Route 13(ii): New York State Thruway (I-87) south to Major Deegan Expressway (I-87) to Cross Bronx Expressway (I-95), east to Bruckner Expressway (I-278) to Throgs Neck Bridge, to Clearview Expressway (I-295) to L.I. Expressway (I-495) west to Van Wyck Expressway (I-678), south on Van Wyck Expressway (I-678) to J.F.K. Airport Note: Rendezvous with escort if required. Reverse routing permitted. See NYC Route 25 for alternate routes.] | A
01/06/95 | NYC Route 14: From Long Island to J.F.K. International Airport [NYC Route 14(i): West on Long Island Expressway (I-495) to Van Wyck Expressway (I-676), south on Van Wyck Expressway (I-678) to J.F.K. International Airport NYC Route 14(ii): West on Sunrise Highway (State 27) to North Conduit Blvd. to Van Wyck Expressway (I-678), south on Van Wyck Expressway (I-678) to J.F.K. International Airport NYC Route 14(ii): West on Sunrise Highway (State 27) to North Conduit Blvd. to Rockaway Blvd., or 150th Street, to J.F.K. International Airport Note: Rendezvous with escort if required. Reverse routing permitted.] | A
01/06/95 | NYC Route 15: From New Jersey to Staten Island Piers [NYC Route 15(i): From New Jersey via Bayonne Bridge Plaza via Willowbrook Expressway (State 440) to Staten Island Expressway (I-278), west on Staten Island Expressway to Western Avenue, north on Western Avenue to Richmond Terrace, east on Richmond Terrace to Northside Piers, or Staten Island Expressway, east to Bay Street Exit, then local streets to east side piers NYC Route 15(ii): From Goethals Bridge Plaza via Staten Island Expressway (I-278) to Forest Avenue, north on Forest Avenue to Goethals Road North, west on Goethals Road North to Western Avenue, north on Western Avenue to Northside Piers, or Staten Island Expressway east to Bay Street exit, then local streets to east side piers NYC Route 15(iii): From Outerbridge Crossing via West Shore Expressway (State 440) and Staten Island Expressway (I-278), west on Staten Island Expressway to Western Avenue, north on Western Avenue to Richmond Terrace, then local streets for Northside piers, or Staten Island Expressway east to Bay Street exit, then local streets to east side piers Note: Rendezvous with escort if required. Reverse routing permitted.] | A
01/06/95 | NYC Route 16: From New Jersey to Brooklyn Piers [NYC Route 16(i): From Bayonne Bridge, south via Wiilowbrook Expressway (State 440) to Staten Island Expressway (I-278), east to Verrazano-Narrows Bridge (upper level) to Brooklyn Queens Expressway (I-278), east on Brooklyn Queens Expressway (I-278), east on Brooklyn Queens Expressway (I-278) to nearest exit to location of pier then local streets to pier NYC Route 16(ii): From New Jersey via Goethals Bridge to Staten Island Expressway (I-278) to Verrazano-Narrows Bridge (upper level), to Brooklyn Queens Expressway (I-278), east on Brooklyn Queens Expressway (I-278) to nearest exit to location of pier then local streets to pier NYC Route 16(iii): >From New Jersey via Outerbridge Crossing to West Shore Expressway (State 440) to Staten Island Expressway (I-278) to Verrazano-Narrows Bridge (upper level) , to Brooklyn Queens Expressway (I-278), east on Brooklyn Queens Expressway (I-278) to nearest exit to location of pier, local streets to pier Note: Rendezvous with escort if required. Reverse routing permitted. Explosives prohibited on Verrazano Bridge] | A
01/06/95 | NYC Route 17(i): From New Jersey to Manhattan Piers via George Washington Bridge [NYC Route 17(i): From New Jersey via George Washington Bridge (upper level), exit at 178th Street and Fort Washington Avenue, east on 178th Street to Amsterdam Avenue, south on Amsterdam Avenue to Cathedral Parkway (110th Street), east on 110th Street to Columbus Avenue, south on Columbus Avenue to west 57th Street, west on 57th Street to 11th Avenue, south on 11th Avenue to 55th Street, west on 55th Street to 12th Avenue, 12th Avenue north or south to pier location. Note: Rendezvous with escort if required. Reverse routing permitted. In area of 12th Street, 12th Avenue becomes West Street.] | A
01/06/95 | NYC Route 17(ii)A and 17(ii)B: From New Jersey to Manhattan Piers via Lincoln Tunnel [NYC Route 17(ii)A: Lincoln Tunnel to west side piers north of Lincoln Tunnel: From Lincoln Tunnel, exit at Dyer Avenue (40th Street) north on Dyer Avenue to 41st Street, west (left) on 41st Street, to 12th Avenue (right turn at 12th Avenue adjacent to elevated structure of West Side Highway, continue north on 12th Avenue to piers. Return route 17(ii)A: Return route to Lincoln Tunnel: South on 12th Avenue (at 43rd Street, move to left traffic lane to exit at 42nd Street), east (left turn) at 42nd Street on block to 11th Avenue, turn south (right) at 11th Avenue, continue south on 11th Avenue for two blocks (follow signs to Lincoln Tunnel) , east (left) on 40th Street to Lincoln Tunnel entrance at Galvin Avenue. NYC Route 17(ii)B: Lincoln Tunnel to west side piers south of Lincoln Tunnel: From Lincoln Tunnel exit at Dyer Avenue (40th Street) north on Dyer Avenue to 41st Street, west (left) on 41st Street to 12th Avenue, south (left) on 12th Avenue (under elevated structure of West Side Highway to southbound traffic lane of 12th Avenue) continue south on 12th Avenue and/or West Street to piers. Return route 17(ii)B: Return route to Lincoln Tunnel: North on West Street to 12th Avenue, north on 12th Avenue to 40th Street, east on 40th Street across 11th Avenue to Galvin Avenue entrance to Lincoln Tunnel. Note: In area of 12th Street, 12th Avenue becomes West Street.] | A
01/06/95 | NYC Route 17(ii)C and 17(ii)D: From New Jersey to Manhattan Piers via Holland Tunnel [NYC Route 17(ii)C: Holland Tunnel to west side piers north of Holland Tunnel: Exit from Holland Tunnel at Hudson Street, north (right turn) on Hudson Street to Canal Street, west (left turn) on Canal Street to West Street, north (right turn) on West Street, continue north on West Street and/or 12th Avenue, to piers. Return route 17(ii)C: Return route to Holland Tunnel: South on 12th Avenue and continue south on West Street to Canal Street, east (left turn) on Canal Street to Hudson Street, then north (left turn) at Hudson Street to Holland Tunnel entrance. NYC Route 17(ii)D: Holland Tunnel to west side piers south of Holland Tunnel: Exit from Holland Tunnel at Hudson Street, north (right turn) on Hudson Street to Canal Street, west (left turn) on Canal Street to West Street, north (right turn) on West Street to west Houston Street, make “U” turn from north bound traffic lane under elevated West Side Highway to south bound traffic lane of West Street, continue south on West Street to piers. Return route 17(ii)D: North on West Street to Canal Street, east (right turn) on Canal Street to Hudson Street, then north (left turn) on Hudson Street to Holland Tunnel entrance. Note: In area of 12th Street, 12th Avenue becomes West Street. ] | A
01/06/95 | NYC Route 17(ii)E: From New Jersey, via George Washington Bridge, Lincoln or Holland Tunnels to lower east side (East River) piers [Utilize routes 17(ii)A through 17(ii)D, continue south on 12th Avenue or West Street, south on West Street to Battery Park Underpass (head room 12' 11”), enter Battery Park Underpass and exit on South Street, continue north on South Street and/or marginal street under elevated F.D.R. Drive to location of pier Return route: Proceed south on marginal street under elevated F.D.R. Drive and/or South Street to Battery Park Underpass, enter Battery Park Underpass and exit on West Street, proceed north on West Street and/or 12th Avenue, continue as per routes 17(ii)A through 17(ii)D to Lincoln and Holland Tunnels respectively, and, for George Washington Bridge, proceed north on 12th Avenue to 57th Street, east on 57th Street to Amsterdam Avenue, north on Amsterdam Avenue to 179th Street, west on 179th Street to George Washington Bridge. Note: Rendezvous with escort if required. In area of 12th Street, 12th Avenue becomes West Street. ] | A
01/06/95 | NYC Route 18(i): From New England to Manhattan piers [South on New England Thruway (I-95) (to Connors Street exit to meet escort if required), to Bruckner Expressway (I-278), to Willis Avenue and Third Avenue exit on 135th Street, west on 135th Street Third Avenue, south on Third Avenue across 3rd Avenue Bridge to 129th Street, east on 129th Street to Second Avenue, south on Second Avenue to East 125th Street. Return route: From Manhattan Piers to upstate New York, Westchester County, and New England. Reverse route 18 (ii) to 12th Avenue, north to West 57th Street, then east on West 57th Street to Amsterdam Avenue, north on Amsterdam Avenue to 125th Street, east to 1st Avenue, north on 1st Avenue to Willis Avenue Bridge, across Willis Avenue Bridge to Bruckner Blvd., Bruckner Blvd. to 138th Street entrance to Bruckner Expressway (I-278), east and north on Bruckner Expressway (I-278) to New England Thruway (I-95), then New England Thruway (I-95) north to City line. Note: Rendezvous with escort if required.] | A
01/06/95 | NYC Route 18(ii): From Westchester County or upstate New York to Manhattan piers [New York Thruway (I-87), south to Major Deegan Expressway (I-87), Major Deegan Expressway, (I-87) south to 138th Street exit, service road to Third Avenue, south on 3rd Avenue, across 3rd Avenue Bridge to east 129th Street, east on 129th Street to Second Avenue, south on Second Avenue to east 125th Street. Then, west on 125th Street to Amsterdam Avenue, south on Amsterdam Avenue to Cathedral Parkway (110th Street) east on 110th Street to Columbus Avenue, south on Columbus Avenue to west 57th Street, west on 57th Street to 11th Avenue, south on 11th Avenue to west 55th Street, west on west 55th Street to 12th Avenue north or south to pier location. For lower East River piers, continue south on 12th Avenue to West Street, south on West Street around Battery Park (do not use Battery Under-Pass) to South Street, north on marginal streets under the elevated F.D.R. Drive to location of pier. Return route: Reverse route 18(ii) to 12th Avenue, then north to West 57th Street, then east on west 57th Street to Amsterdam Avenue, north on Amsterdam Avenue to 125th Street, east on 125th Street to 1st Avenue, north on 1st Avenue to Willis Avenue Bridge, across Willis Avenue Bridge, Willis Avenue to Major Deegan Expressway (I-87), Major Deegan Expressway north to New York Thruway (I-87), then north to City line. Note: Rendezvous with escort if required.] | A
01/06/95 | NYC Route 19: From New England, upper New York State and Westchester County to Staten Island Piers [NYC Route 19(i): South on New England Thruway (I-95) (to Connors Street exit to meet escort if required) to Bruckner Expressway (I-95) to Throgs Neck Expressway (I-295) via Throgs Neck Bridge to Clearview Expressway (I-295) to Long Island Expressway (I-495), west on Long Island Expressway (I-495) to Brooklyn Queens Expressway (I-278), west to Verrazano-Narrows Bridge (upper level) to Staten Island Expressway (I-278) to Bay Street exit for eastside piers, or west to Western Avenue, north to Richmond Terrace, then local streets to northside piers. NYC Route 19(ii): New York State Thruway (I-87) south to Major Deegan Expressway (I-87) (exit into “service area” of Expressway, located between Westchester County line and east 233rd Street exit of the Expressway, to rendezvous with escort, if required) to Cross Bronx Expressway (I-95), east on Cross Bronx Expressway (I-95) to Throgs Neck Bridge, to Clearview Expressway (I-295) to Long Island Expressway (I-495), west to Brooklyn Queens Expressway (I-279), west to Verrazano-Narrows Bridge (upper level), to Staten Island Expressway (I-278) , exit at Bay Street for eastside piers, or continue on Staten Island Expressway (I-278) to Western Avenue, north on western Avenue to Richmond Terrace, then local streets to northside piers. Note: Rendezvous with escort if required. Reverse routing permitted. Explosives prohibited on Verrazano Bridge.] | A
01/06/95 | NYC Route 20: From New England, Westchester County and upstate New York to Brooklyn piers [NYC Route 20(i): South on New England Thruway (I-95) (to Connors Street exit to meet escort if required) to Bruckner Expressway (I-95) to Throgs Neck Expressway (I-295) via Throgs Neck Bridge to Clearview Expressway (I-295), to Long Island Expressway (I-495), west on Long Island Expressway (I-495) to Brooklyn Queens Expressway (I-278) west on Brooklyn Queens Expressway (I-278) to nearest exit to pier location. Route from nearest expressway exit to pier via local streets NYC Route 20(ii): From New York State Thruway (I-87), south to Major Deegan Expressway (I-87) , (exit into “service area” of expressway, located between Westchester County line and east 233rd Street exit of the Expressway, to rendezvous with escort, if required) to Cross Bronx Expressway (I-95), east on Cross Bronx Expressway (I-95) to Throgs Neck Bridge, south to Clearview Expressway (I-295), to Long Island Expressway, west on Long Island Expressway (I-495) to Brooklyn Queens Expressway, west on Brooklyn Queens Expressway (I-278) to nearest exit to pier location, then via local streets to pier. Note: Rendezvous with escort if required. Reverse routing permitted.] | A
01/06/95 | NYC Route 21: From Long Island (Nassau or Suffolk) to Brooklyn and Staten Island piers [Long Island Expressway (I-495) west to Brooklyn Queens Expressway (I-278) , then west on Brooklyn Queens Expressway (I-278), then either: NYC Route 21(i)A: Continue to nearest exit for Brooklyn piers location NYC Route 21(i)B: Continue west on Brooklyn Queens Expressway (I-278) to Verrazano Bridge (upper level), cross bridge to Staten Island Expressway (I-278), exit at Bay Street for Staten Island eastside piers (utilizing local streets) , or continue west on Staten Island Expressway (I-278) to Western Avenue, north on Western Avenue to Richmond Terrace, then local streets for northside Staten Island piers. Note: Rendezvous with escort if required. Reverse routing permitted. Explosives prohibited on Verrazano Bridge.] | A
01/06/95 | NYC Route 22: From Long Island (Nassau or Suffolk) to Manhattan piers [East on Long Island Expressway (I-495) to Clearview Expressway (I-295), north on Clearview Expressway (I-295) across Throgs Neck Bridge to Bruckner Expressway (I-278), west on Bruckner Expressway (I-278) continuing as per NYC route 18(i) and 18(ii) to Manhattan piers. Return routing: From Manhattan piers to Long Island. Use return route for 18(i) to Bruckner Expressway (I-278), east on Bruckner Expressway (I-278) to Throgs Neck Expressway (I-295) south on Throgs Neck Expressway (I-295), over Throgs Neck Bridge, south on Clearview Expressway (I-295) to Long Island Expressway (I-495), then east on Long Island Expressway (I-495) to Nassau and Suffolk Counties. Note: Rendezvous with escort if required.] | A
01/06/95 | NYC Route 23(i): From New Jersey to Howland Hook Truck Terminal, Staten Island [NYC Route 23(i)A: From New Jersey via Bayonne Bridge Plaza via Willowbrook Expressway (State 440) south to Staten Island Expressway (I-278), north on Western Avenue, east to Howland Hook Terminal. NYC Route 23(i)B: From New Jersey via Outerbridge Crossing, north on West Shore Expressway (State 440) to Staten Island Expressway (I-278), west on Staten Island Expressway (I-278) to Western Avenue, north on Western Avenue, east to Howland Hook Terminal. NYC Route 23(i)C: From New Jersey via Goethals Bridge to Staten Island Expressway (I-278) to Forest Avenue, north on Forest Avenue to Goethals Road North, west on Goethals Road North to Western Avenue, north on Western Avenue, then east to Howland Hook Terminal. Note: Rendezvous with escort if required. Reverse routing permitted.] | A
01/06/95 | NYC Route 23(ii): From New England, upper New York State and Westchester County to Howland Hook Truck Terminal, Staten Island [Use routes 19(i) and 19(ii) except that entrance to Howland Hook Terminal is east from Western Avenue. Note: Rendezvous with escort if required. Reverse routing permitted. Explosives prohibited on Verrazano Bridge. ] | A
01/06/95 | NYC Route 23(iii): From Nassau County and Suffolk County to Howland Hook Truck Terminal, Staten Island [West on Long Island Expressway (I-495) to Brooklyn Queens Expressway (I-278), then west on Brooklyn Queens Expressway (I-278) to Verrazano Bridge, cross upper level of Verrazano Bridge, then west on Staten Island Expressway (I-278) to Western Avenue, north on Western Avenue, then east to Howland Hook Terminal. Note: Rendezvous with escort if required. Reverse routing permitted. Explosives prohibited on Verrazano Bridge.] | A
01/06/95 | NYC Route 23(iv): From Airports to Howland Hook Truck Terminal, Staten Island [NYC Route 23(iv)A: From J. F. Kennedy Airport, north on Van Wyck Expressway (I-678) to Long Island Expressway (I-495), then west on Long Island Expressway continuing as per route 23(iii). NYC Route 23(iv)B: From LaGuardia Airport, south on 82nd Street to Astoria Blvd., west on Astoria Boulevard to Brooklyn Queens Expressway (I-278), then west on Brooklyn Queens Expressway (I-278), continuing as per route 23(iii) Note: Rendezvous with escort if required. Reverse routing permitted. Explosives prohibited on Verrazano Bridge. ] | A
01/06/95 | NYC Route 24: Truck and Railroad Terminal in Bushwick area, Brooklyn and Maspeth area, Queens [Utilize routes 3(i) or 3(ii) from New Jersey, 4(i) or 4(ii) from upstate New York, New England or Westchester County, C-3 Island Expressway (I-495), then Long Island Expressway (I-495) to Grand Avenue exit (westbound) or Maurice Ave. exit (eastbound), then to Grand Avenue (and Grand Street), east or west as required. Note: Rendezvous with escort if required. Reverse routing permitted.] | A
01/06/95 | NYC Route 25: Alternate hazmat routes in lieu of the Throgs Neck Bridge [For vehicles not carrying explosives, alternate routes utilizing the Whitestone Bridge or the Triboro Bridge may be used in lieu of the Throgs Neck Bridge specified in Routes 4(ii), 7(i), 9(ii), 12(i), 13(ii), 19(ii), and 20(ii), as follows: NYC Route 25(i): Cross Bronx Expressway (I-95) to Hutchinson River Parkway, south on Hutchinson River Parkway over Whitestone Bridge, and continue south on Whitestone Expressway (I-678)—THEN either: NYC Route 25(i)A: to Astoria Blvd., west on Astoria Blvd. to 82nd Street, north on 82nd Street to LaGuardia Airport. NYC Route 25(i)B: to Van Wyck Expressway (I-678), south on Van Wyck Express way (I-676) to J.F. Kennedy Airport. NYC Route 25(i)C: to Van Wyck Expressway (I-678), south to Long Island Expressway (I-495), west on Long Island Expressway (I-495) to Brooklyn Queens Expressway (I-278), west on Brooklyn Queens Expressway (I-278) to Brooklyn or Staten Island piers as per routes (19) or (20). NYC Route 25(ii): South on Major Deegan Expressway (I-87) from Cross Bronx Expressway or Upstate New York, to Triboro Bridge, across Triboro Bridge to Queens, exit and proceed east on Astoria Blvd.—THEN either: NYC Route 25(ii)A: to 82nd Street, north on 82nd Street to LaGuardia Airport. NYC Route 25(ii)B: to Brooklyn Queens Expressway (I-278), west on Brooklyn Queens Expressway (I-278) to Long Island Expressway (I-495), east on Long Island Expressway (I-495) to Van Wyck Expressway (I-678), south on Van Wyck Expressway (I-678) to J.F.K. Airport. NYC Route 25(ii)C: to Brooklyn Queens Expressway (I-278), west on Brooklyn Queens Expressway (I-278) to Brooklyn or Staten Island Piers as per routes (19) or (20). Note: Rendezvous with escort if required. Reverse routing permitted.] | A

State: North Carolina
State Agency: | NC Dept. of Transportation | FMCSA: | NC FMCSA Field Office
POC: | Cpt. George Gray | FMCSA POC: | NC Motor Carrier State Director
Address: | Transportation Building, DMV 1 S. Wilmington St., BOX 25201 Raleigh, NC 27611-5201 | Address: | 310 New Bern Ave. Suite 468 Raleigh, NC 27601
Phone: | 919-861-3186 | Phone: | (919) 856-4378
Fax: | 919-715-3988 | Fax: |
No Routes Designated as of 11/14/00

State: North Dakota
State Agency: | ND DOT | FMCSA: | ND FMCSA Field Office
POC: | Jerry Horner | FMCSA POC: | ND Motor Carrier State Director
Address: | 608 East Blvd. Ave. Bismarck, ND 58505 | Address: | 1471 Interstate Loop Bismarck, ND 58501-0567
Phone: | (701)-328-4443 | Phone: | (701) 250-4346
Fax: | (701)-328-4623 | Fax: |
No Routes Designated as of 11/14/00

State: Ohio
State Agency: | Public Utilities Comm of OH | FMCSA: | OH FMCSA Field Office
POC: | Dan Fisher | FMCSA POC: | OH Motor Carrier State Director
Address: | 180 East Broad St Columbus, OH 43215 | Address: | 200 N. High St. Room 328 Columbus, OH 43215
Phone: | (614)-752-7991 | Phone: | (614) 280-5657
Fax: | (614)-752-8349 | Fax: |

Restricted Routes For All OH Hazmats
Designation Date | Route Description | Restrict Desig 0123456789i ABIMP
07/01/96 | Any other highway or state or local road not otherwise designated for the transportation of hazardous materials by the routing designation. [in Northeastern Ohio] | 0
10/14/93 | City of Cambridge [Hazmat transportation in the City of Cambridge is prohibited where there is neither a point of origin or destination within the City on the following routes: US Route 40, US Route 22, State Route 209, and any City streets] | 0
05/04/92 | City of Cleveland [City Streets] [Hazmat transportation in the City of Cleveland is prohibited where there is neither a point of origin nor delivery point with the City unless the point of origin or delivery is within one mile of the City limits and the use of the city streets is the safest and most direct route and the shortest distance of travel. Downtown streets are restricted from hazmat transportation between 7 AM and 6PM daily, except on the weekend. When city streets are to be used, the transporter must use interstate highways to a point as close as possible to the destination.] | 0
11/03/86 | City of Lorain [Hazmat transportation in the City of Lorain is prohibited where there is neither a point of origin or destination within the City on the following routes: State Route 57, State Route 611, State Route 58, US Route 6, and any city streets.] | 0
07/01/96 | Interstate 71 from Interstate 80 to Interstate 90 [in Cuyahoga County] | 0
07/01/96 | Interstate 77 from Interstate 80 to Interstate 90 [in Cuyahoga County] | 0
07/01/96 | Interstate 90 from Interstate 271 [in Lake County] to Interstate 80/90 [in Lorain County] | 0
07/01/96 | Interstate 480 from Interstate 271 to Interstate 480N [in Cuyahoga County] | 0
07/01/96 | Interstate 490 from Interstate 90 to Interstate 77 [in Cuyahoga County] | 0
07/01/96 | State 2 from State 44 to Interstate 90 [in Lake County] | 0
07/01/96 | State 44 from State 2 to Interstate 90 [in Lake County] | 0

Radioactive Hazmat (RAM) Routes
OH RAM Preferred Routes
Designation Date | Route Description | Restrict Desig 0123456789i ABIMP
09/09/88 | State-Wide [Preferred routes for high route controlled quantities of radioactive materials (HRCQ of RAM) are, “Interstate System highways, including interstate system bypasses or Interstate System beltways” as per 49 CFR Part 397] | P

Non-Radioactive Hazmat (NRHM) Routes
OH NRHM Designated Routes
Designation Date | Route Description | Restrict Desig 0123456789i ABIMP
01/29/90 | Bedford from Erieway Facility [at 33 Industry Drive] [Proceed on Industry Dr, turn right on Northfield Rd, turn left on Alexander Rd., to I271 access road. Alternatively, from Northfield Rd, turn right on Forbes Rd, turn right on Broadway Rd. to I271. ] | A
04/06/85 | Broad St. [Inside Interstate 270] [Only for the delivery of NRHM within the City of Columbus] | A
10/14/93 | County 35 [Old 21/Clark/Byesville Rd. in the City of Cambridge] [for destination within City only] | A
11/03/86 | Cooper Foster Park Rd. [in the City of Lorain] [for destination within City only] | A
04/06/85 | High St. [Inside Interstate 270] [Only for the delivery of NRHM within the City of Columbus] | A
10/14/93 | Interstate 70 [in the City of Cambridge] [For hazmat shipments which have neither a point of origin or destination within the City of Cambridge.] | A
04/06/85 | Interstate 70 [inside I270] [Only for the delivery of NRHM within the City of Columbus] | A
07/01/96 | Interstate 71 from Interstate 80 [in Cuyahoga County] to Interstate 271 [in Summit County] | A
04/06/85 | Interstate 71 [inside I270] [Only for the delivery of NRHM within the City of Columbus] | A
07/01/96 | Interstate 77 from Interstate 80 [in Cuyahoga County] to Interstate 271 [in Summit County] | A
10/14/93 | Interstate 77 [in the City of Cambridge] [For hazmat shipments which have neither a point of origin or destination within the City of Cambridge.] | A
07/01/96 | Interstate 80 [and I80/I90 Ohio Turnpike] from Gate 13 [in Portage County] to Loraine/Erie County Line | A
07/01/96 | Interstate 90 from Lake/Ashtabula county line to Interstate 271 [in Lake county] | A
11/03/86 | Interstate 90 [in the City of Lorain] [For hazmat shipments which have neither a point of origin or destination within the City of Lorain.] | A
11/01/94 | Interstate 90 [in the City of Westlake] | A
04/06/85 | Interstate 270 [Columbus Outerbelt] [Shipments which do not have the destination within the City of Columbus, but as a throughway.] | A
07/01/96 | Interstate 271 from Interstate 90 [in Lake County] to Interstate 71 [in Medina County] | A
07/01/96 | Interstate 480N from Interstate 271 to Interstate 480 [in Cuyahoga County] | A
07/01/96 | Interstate 480 from Interstate 480N [in Cuyahoga County] to Interstate 80 [in Loraine County] | A
07/01/96 | Interstate 480 from Interstate 80 [Gate 13 in Portage County] to Interstate 271 [in Summit County] | A
04/06/85 | Interstate 670 from Interstate 70 to Interstate 270 [Only for the delivery of NRHM within the City of Columbus] | A
10/02/89 | Liberty St. [in the City of Painesville] | M
11/03/86 | Middle Ridge Rd. [in the City of Lorain] [for destination within City only] | A
10/14/93 | North Second St. [in the City of Cambridge] [for destination within City only] | A
10/02/89 | Richmond St. [in the City of Painesville] | M
10/02/89 | State 2 [City of Painesville] [For medical waste which does note originate in the City of Painesville] | M
11/03/86 | State 2 [in the City of Lorain] [For hazmat shipments which have neither a point of origin nor destination within the City of Lorain.] | A
04/06/85 | State 33 [inside I270] [Only for the delivery of NRHM within the City of Columbus] | A
10/02/89 | State 44 [City of Painesville] [For medical waste which does not originate in the City of Painesville] | M
11/03/86 | State 57 [in the city limits of Lorain] [for destination within City only] | A
11/03/86 | State 58 [in the city limits of Lorain] [for destination within City only] | A
04/06/85 | State 161 [inside I270] [Only for the delivery of NRHM within the City of Columbus] | A
10/14/93 | State 209 [Southgate Parkway in the City of Cambridge] [for destination within City only] | A
11/01/94 | State 252 [Columbia Rd. in the City of Westlake] | A,B
11/01/94 | State 254 [Detroit Rd. in the City of Westlake] | A,B
04/06/85 | State 315 [inside I270] [Only for the delivery of NRHM within the City of Columbus] | A
11/03/86 | State 611 [in the city limits of Lorain] [for destination within City only] | A
10/14/93 | Stubenville Ave. [in the City of Cambridge] [for destination within City only] | A
11/03/86 | US 6 [in the city limits of Lorain] [for destination within City only] | A
11/01/94 | US 20 [Center Ridge Rd. in the City of Westlake] | A,B
10/14/93 | US 22 [Wheeling Ave. in the City of Cambridge] [for destination within City only] | A
10/14/93 | US 40 [Whelling Ave. in the City of Cambridge] [for destination within City only] | A

State: Oklahoma
State Agency: | OK Dept. of Transportation | FMCSA: | OK FMCSA Field Office
POC: | Harold Smart | FMCSA POC: | OK Motor Carrier State Director
Address: | 200 NE 21st St Oklahoma City, OK 73105-3204 | Address: | 300 N. Meridian Suite 106S Oklahoma City, OK 73107-6560
Phone: | (405) 521-2861 | Phone: | (405) 605-6047
Fax: | (405) 521-2865 | Fax: |

Restricted Routes For All OK Hazmats
Designation Date | Route Description | Restrict Desig 0123456789i ABIMP
07/29/97 | Interstate 40 [In Oklahoma City] from Interstate 44 to Interstate 35 [(Elevated section—not full-width shoulder)] | 0
07/29/97 | OK City & Tulsa [Carriers transporting hazardous cargo should avoid traveling through large metropolitan areas during times of the day when congestion is expected. These carriers should also avoid construction zones when possible. Construction information can be accessed by calling the OK Department of Transportation at (405) 521-2554.] | 0

Non-Radioactive Hazmat (NRHM) Routes
OK NRHM Designated Routes
Designation Date | Route Description | Restrict Desig 0123456789i ABIMP
07/29/97 | All Interstates [All hazardous material shipments moving through Oklahoma should remain on Interstate routes, when possible.] | A
07/29/97 | Interstate 44 [Southwest of Oklahoma City] from Interstate 40 to Interstate 240 [Use to bypass section of I-40 running through downtown Oklahoma City] | A
07/29/97 | Interstate 240 [South of Oklahoma City] from Interstate 44 to Interstate 40 [Southeast of Oklahoma City] [Use to bypass section of I-40 running through downtown Oklahoma City] | A
07/29/97 | Interstate 244 [Tulsa] from Interstate 44 [West of Tulsa] to Interstate 44 [East of Tulsa] [Use to bypass downtown Tulsa] | A

State: Oregon
State Agency: | Oregon DOT | FMCSA: | OR FMCSA Field Office
POC: | Michael Sullivan | FMCSA POC: | OR Motor Carrier State Director
Address: | 12348 N. Center Ave Portland, OR 97217 | Address: | The Equitable Center-Suite 100 530 Center Street, NE Salem, OR 97301-3740
Phone: | (503)-283-5790 | Phone: | (503) 399-5775
Fax: | (503)-283-5703 | Fax: |

Restricted Routes For All OR Hazmats
Designation Date | Route Description | Restrict Desig 0123456789i ABIMP
11/01/94 | NW Balboa Ave [Portland—crossing Burlington Northern rail tracks] from Frost Ave. to St. Helens Rd. | 0
11/01/94 | NW Doane Ave. [Portland—crossing Burlington Northern rail tracks] from St. Helens Rd. to Frost Ave. [03/01/00—This route is deleted—NW Doane Ave. no longer exists.] | 0
11/01/94 | US 26 [includes Vista Ridge Tunnel] from Interstate 405 to State 217 | 0
11/01/94 | US 30 [St. Helens Rd. near NW Doane Ave. and NW Boloa Ave. Rail Crossings (Burlington Northern)] [Use the Kittridge Ave Overpass to Frost Ave.] | 0

Radioactive Hazmat (RAM) Routes
OR RAM Restricted Routes
Designation Date | Route Description | Restrict Desig 0123456789i ABIMP
11/01/94 | Interstate 84 [east of Pendelton] [Arrowhead Truck Plaza (on tribal land) prohibits parking of classes 1.1, 1.2, 1.3, and 7.] | 1,7

Non-Radioactive Hazmat (NRHM) Routes
OR NRHM Restricted Routes
Designation Date | Route Description | Restrict Desig 0123456789i ABIMP
11/01/94 | Interstate 84 [east of Pendelton] [Arrowhead Truck Plaza (on tribal land) prohibits parking of classes 1.1, 1.2, 1.3, and 7.] | 1,7

OR NRHM Designated Routes
Designation Date | Route Description | Restrict Desig 0123456789i ABIMP
11/01/94 | Interstate 5 from Interstate 405 to State 217 [** alternate route in Portland **] | A
11/01/94 | Interstate 205 from Interstate 5 [south of Portland] to Interstate 5 [Washington State] | A
11/01/94 | Interstate 405 from Interstate 5 to Interstate 5 [** alternate route for Portland **] | A
11/01/94 | Kittridge Ave. Overpass [Portland] from St. Helens Ave. to Frost Ave. | A
11/01/94 | State 217 from Interstate 5 to US 26 [** alternate route in Portland] | A

State: Pennsylvania
State Agency: | PA DOT | FMCSA: | PA FMCSA Field Office
POC: | Daniel R. Smyser, P.E. | FMCSA POC: | PA Motor Carrier State Director
Address: | Chief, Motor Carrier Division P.O. Box 8210 Harrisburg, PA 17105-8210 | Address: | 228 Walnut St. Room 536 Harrisburg, PA 17101-1720
Phone: | (717)-787-7445 | Phone: | (717) 221-4443
Fax: | (717)-705-1434 | Fax: |

Restricted Routes For All PA Hazmats
Designation Date | Route Description | Restrict Desig 0123456789i ABIMP
01/01/58 | Interstate 279 [Forts Pitt Tunnels in Pittsburgh] [(1) Explosives A, (2) Explosives B, (3) Blasting Agents, (4) Flammable Gas, (5) Flammable, (6) Flammable Solids, and (7) Flammable Solid W. prohibited.] | 0
01/01/52 | Interstate 376 [Squirrel Hill Tunnels in Pittsburgh] from Exit 8 to Exit 9 [(1) Explosives A, (2) Explosives B, (3) Blasting Agents, (4) Flammable Gas, (5) Flammable, (6) Flammable Solids, and (7) Flammable Solid W. prohibited.] | 0
01/01/50 | Liberty Ave. [in Liberty Tunnels—Allegheny County] from Carston St. to Saw Mill Run Blvd. [(1) Explosives A, (2) Explosives B, (3) Blasting Agents, (4) Flammable Gas, (5) Flammable, (6) Flammable Solids, and (7) Flammable Solid W. prohibited.] | 0
09/15/93 | State 34 [in Cumberland County] from Segment 0270/Offset 0000 to Segment 0300/Offset 0000 | 0
09/09/93 | State 39 [Dauphin County] from Segment 0030/Offset 0000 to Segment 0210/Offset 0000 | 0
09/15/93 | State 74 [in Cumberland County] from Segment 0170/Offset 0000 to Segment 0210/Offset 0000 | 0
09/15/93 | State 641 [in Cumberland County] from Segment 0440/Offset 3196 to Segment 0470/Offset 0000 | 0
11/03/94 | SR3009 [Dauphin County] from Segment 0210/Offset 0720 to Segment 0221/Offset 1382 | 0
03/21/94 | SR4020 [Lancaster County] from Segment 0010/Offset 0000 to Segment 0130/Offset 0000 | 0
09/15/93 | US 11 [in Cumberland County] from Segment 0360/Offset 2119 to Segment 0510/Offset 0000 | 0
09/09/93 | US 22 [Eastbound—Dauphin County] from Segment 0420/Offset 0000 to Segment 0570/Offset 0000 | 0
09/09/93 | US 22 [Westbound—Dauphin County] from Segment 0421/Offset 0000 to Segment 0571/Offset 0000 | 0
07/22/89 | US 30 [West—Descending Laurel Mountain in Somerset/Westmoreland Counties] [Descending Laurel Mountain into the Village of Laughlintown (to protect Ligonier Municipal Reservoir). The “recommended” alternate route is south on US 219 to I-76 (PA Turnpike), west on I-76 to New Stanton.] | 0

State: Pennsylvania
State Agency: | PA Turnpike Commission | FMCSA: | PA FMCSA Field Office
POC: | Doris Stringer | FMCSA POC: | PA Motor Carrier State Director
Address: | Customer Service Center P.O. Box 67676 Harrisburg, PA 17106-7676 | Address: | 228 Walnut St. Room 536 Harrisburg, PA 17101-1720
Phone: | 1-800-331-3413 | Phone: | (717) 221-4443
Fax: | (717) 986-9686 | Fax: |

Restricted Routes For All PA Hazmats
Designation Date | Route Description | Restrict Desig 0123456789i ABIMP
01/01/40 | Interstate 70/I76 [Allegheny Tunnel—Somerset County] from Exit 10 to Exit 11 [Effective July 16, 2000: All Table 1 materials and Explosives are still prohibited. Table 2 materials (except explosives) permitted for non-bulk packages (those placards that do not require four-digit codes)] | 0
01/01/40 | Interstate 76 [Blue Mountain Tunnel and Kittatinny Tunnel—Franklin County] from Exit 14 to Exit 15 [Effective July 16, 2000: All Table 1 materials and Explosives are still prohibited. Table 2 materials (except explosives) permitted for non-bulk packages (those placards that do not require four-digit codes)] | 0
01/01/40 | Interstate 76 [Tuscarora Tunnel—Franklin/Huntingdon Counties] from Exit 13 to Exit 14 [Effective July 16, 2000: All Table 1 materials and Explosives are still prohibited. Table 2 materials (except explosives) permitted for non-bulk packages (those placards that do not require four-digit codes)] | 0
01/01/65 | Interstate 476 [Northeast Extension of PA Turnpike at Lehigh Tunnel] from Exit 33 to Exit 34 [Effective July 16, 2000: All Table 1 materials and Explosives are still prohibited. Table 2 materials (except explosives) permitted for non-bulk packages (those placards that do not require four-digit codes)] | 0

State: Puerto Rico
State Agency: | DOT & Public Works | FMCSA: | PR FMCSA Field Office
POC: | Sergio Gonzales | FMCSA POC: | PR Motor Carrier State Director
Address: | P.O. Box 41269 Minillas Station Santurce, PR 00940 | Address: | US Courthouse & Fed Bldg. Carlos Chardon St., Room 329 Hato Rey, PR 00918-1755
Phone: | (787)-728-7785 | Phone: | (787) 766-5985
Fax: |  | Fax: |
No Routes Designated as of 11/14/00

State: Rhode Island
State Agency: | Depart. of Environmental Mgt. | FMCSA: | RI FMCSA Field Office
POC: | Beverly M. Migliore | FMCSA POC: | RI Motor Carrier State Director
Address: | Div. of Waste Mgt. 291 Promenade Street Providence, RI 02908 | Address: | 380 Westminster Mall Room 547 Providence, RI 02903
Phone: | (401)-222-2797 | Phone: | (401) 528-4578
Fax: | (401)-222-3810 | Fax: |

Restricted Routes For All RI Hazmats
Designation Date | Route Description | Restrict Desig 0123456789i ABIMP
07/18/84 | Aquidneck Ave [in Middletown] from Wave Ave to Valley Road | 0
07/18/84 | Bliss Mine Road [in its entirety in Newport & Middletown] | 0
07/18/84 | Burchard Road [in its entirety in Little Compton] | 0
07/18/84 | Central Pike [in Scituate and Foster] from Route 94 [Foster] to Route 102 [Scituate] | 0
07/18/84 | Danielson Pike [in Scituate] from Route 6 to Route 6 | 0
07/18/84 | Miantonami Ave. [in Middletown] from Bliss Mine Road to Valley Road | 0
07/18/84 | Neck Road [in its entirety in Tiverton] | 0
07/18/84 | North Main Road [in Jamestown] from Route 138 to East Shore Road | 0
07/18/84 | Old Plainfield Pike [in Foster & Scituate] from Route 102 to Route 12 [Scituate] | 0
07/18/84 | Peckham Road [in Little Compton] from Route 77 to Burchard Road | 0
07/18/84 | Reservoir Road [in Cumberland] from Route 114 to Massachusetts | 0
07/18/84 | Reservoir Road [in its entirety in Smithfield and North Smithfield] | 0
07/18/84 | Rocky Hill Rd. & Peeptoad Rd. [in Scituate] from Route 101 to Route 116 [Sawmill Rd.] | 0
07/18/84 | Route 101 [in Foster, Glocester, and Scituate] from Route 94 [Foster] to Route 6 [Scituate] | 0
07/18/84 | Route 102 [in Scituate and Foster] from Route 94 [Foster] to Snake Hill Road [Glocester] | 0
07/18/84 | Route 116 [in Scituate & Smithfield] from Scituate Ave. [Scituate] to Smoke Hill Rd. [Smithfield] | 0
07/18/84 | Route 12 [in Scituate and Cranston] from Route 14 [Scituate] to Route 116 [Scituate] | 0
07/18/84 | Route 120 [in Cumberland] from Mendon Road to Massachusetts | 0
07/18/84 | Route 14 [in Scituate] from Route 102 to Route 116 | 0
07/18/84 | Route 295 [in Smithfield and Lincoln] from Exit 8 [Douglas Pike—Smithfield] to Exit 9 [Route 146—Lincoln] | 0
07/18/84 | Route 6 [in Scituate, Johnston, & Foster] from Route 94 [Foster] to Hopkins Ave [Johnson] | 0
07/18/84 | Route 77 [in Little Compton and Tiverton] from Peckham Road [Little Compton] to Route 179 [Tiverton] | 0
07/18/84 | Route 94 [in Foster] from Route 101 to Route 102 [Scituate] | 0
07/18/84 | School House Road [in Warren] from Birch Swamp Rd. to Long Lane | 0
07/18/84 | Serpentine Road [in its entirety in Warren] | 0
07/18/84 | Valley Road [in Middletown] from Miantonami Ave to Route 138 | 0
07/18/84 | Wave Ave [in its entirety in Middletown] | 0

State: South Carolina
State Agency: | No Agency Designated | FMCSA: | SC FMCSA Field Office
POC: |  | FMCSA POC: | SC Motor Carrier State Director
Address: |  | Address: | Strom Thurmond Federal Bldg. 1835 Assembly St., Suite 1253 Columbia, SC 29201
Phone: |  | Phone: | (803) 765-5414
Fax: |  | Fax: |
No Routes Designated as of 11/14/00

State: South Dakota
State Agency: | South Dakota Highway Patrol | FMCSA: | SD FMCSA Field Office
POC: | Capt. Myron Rau | FMCSA POC: | SD Motor Carrier State Director
Address: | 500 E. Capitol Pierre, SD 57501 | Address: | 116 East Dakota Ave. Pierre, SD 57501-3110
Phone: | (605) 773-4578 | Phone: | (605) 224-8202
Fax: | (605) 773-6046 | Fax: |
No Routes Designated as of 11/14/00

State: Tennessee
State Agency: | TN DOT | FMCSA: | TN FMCSA Field Office
POC: | Carl Cobble | FMCSA POC: | TN Motor Carrier State Director
Address: | Suite 400 James K. Polk Bldg. Nashville, TN 37243-0333 | Address: | 640 Grassmere Park Rd. Suite 112 Nashville, TN 37211-3568
Phone: | (615)-741-2027 | Phone: | (615) 781-5781
Fax: | (615)-532-5995 | Fax: |

Restricted Routes For All TN Hazmats
Designation Date | Route Description | Restrict Desig 0123456789i ABIMP
05/15/87 | Interstate 40 [Through City of Knoxville] from Exit 385 [intersection with I-75/I-640 west of Knoxville] to Exit 393 [intersection with I-640 east of Knoxville] [Prohibition does not apply to hazmat shipments originating at or destined to the City of Knoxville and to service points of US 129 in Blount County as verified by appropriate shipping papers, or shipments to be interlined with other carriers or to be transferred to other vehicles of the same carrier at facilities in these areas, or to vehicles which need emergency repair or warranty work performed at authorized dealers in these areas.] | 0

Radioactive Hazmat (RAM) Routes
TN RAM Preferred Routes
Designation Date | Route Description | Restrict Desig 0123456789i ABIMP
05/15/87 | Interstate 640/I75 from Interstate 40 [exit 385 West of Knoxville] to Interstate 40 [exit 393 East of Knoxville] [In lieu of I-40 in the Knoxville area. Preferred route originate date is 08/03/88] | A,P

Non-Radioactive Hazmat (NRHM) Routes
TN NRHM Designated Routes
Designation Date | Route Description | Restrict Desig 0123456789i ABIMP
05/15/87 | Interstate 640/I75 from Interstate 40 [exit 385 West of Knoxville] to Interstate 40 [exit 393 East of Knoxville] [In lieu of I-40 in the Knoxville area. Preferred route originate date is 08/03/88] | A,P

State: Texas
State Agency: | TX Department of Transportation | FMCSA: | TX FMCSA Field Office
POC: | Margaret Moore | FMCSA POC: | TX Motor Carrier State Director
Address: | 125 E. 11th St. Austin, TX 78701-2483 | Address: | Federal Office Bldg., Rm 826 300 East 8th St. Austin, TX 78701
Phone: | (512)-416-3122 | Phone: | (512) 916-5475
Fax: | (512)-416-3299 | Fax: |

Restricted Routes For All TX Hazmats
Designation Date | Route Description | Restrict Desig 0123456789i ABIMP
11/01/94 | Interstate 30 [Dallas] from Interstate 35 to Oakland Ave. [Overpass] [No operator of a motor vehicle transporting hazardous material scheduled for delivery to or from a Dallas Terminal shall transport those materials on any street or highway, or segment of a street or public highway designated as “Prohibited Hazardous Materials Area.”] | 0
11/01/94 | Interstate 45 Elevated [Dallas] from Lamar Underpass to Bryan St. Underpass [No operator of a motor vehicle transporting hazardous material scheduled for delivery to or from a Dallas Terminal shall transport those materials on any street or highway, or segment of a street or public highway designated as “Prohibited Hazardous Materials Area”] | 0

Radioactive Hazmat (RAM) Routes
TX RAM Preferred Routes
Designation Date | Route Description | Restrict Desig 0123456789i ABIMP
11/01/94 | US 277 [San Angelo] from Farm to Market 2105 to Loop 306 N | P

Non-Radioactive Hazmat (NRHM) Routes
TX NRHM Restricted Routes
Designation Date | Route Description | Restrict Desig 0123456789i ABIMP
11/01/94 | Loop 335 [Amarillo] from Amarillo Blvd W to South City Limits | 2

TX NRHM Designated Routes
Designation Date | Route Description | Restrict Desig 0123456789i ABIMP
11/01/94 | 10th St. [Texas City, Galveston County] from 4th St. to end | A
11/01/94 | 14th St. [Texas City, Galveston County] from Loop 197 to 5th Ave. | A
11/01/94 | 2nd Ave. [Texas City, Galveston County] from Loop 197 to Sterling Chemical Co. | A
11/01/94 | 4th Ave. [Texas City, Galveston County] from Loop 197 to 10th St. | A
11/01/94 | 51st St./Seawolf Pkwy. [Galveston, Galveston County] from State 275 to end | A
11/01/94 | 5th Ave. [Texas City, Galveston County] from State 146 to 14th St. | A
11/01/94 | Airway Blvd [El Paso] from Interstate 10 to US 62/180 | A
11/01/94 | BI 40 [Amarillo] from West City Limits to Farm to Market 1719 | A
11/01/94 | BS 36 [Brenham] from State 36 to Farm to Market 577 | A
11/01/94 | BS 71 [La Grange] from West City Limits to Farm to Market 609 | A
11/01/94 | BU 281 [Edinburg] from US 281 N to Farm to Market 1925 | A
11/01/94 | BU 77 [Harlingen] from North City Limits to South City Limits | A
11/01/94 | BU 77 [Harlingen] from US 77 N to Loop 499 N | A
11/01/94 | Commerce St. [Harlingen] from BU 77 N to BU 77 S | A
11/01/94 | Cordova Port of Entry [El Paso] from Interstate 110 to Republic of Mexico | A
11/01/94 | Delta Dr. [El Paso] from Trowbridge Dr. to Fonseca Dr. | A
11/01/94 | Farm to Market 106 [Harlingen] from East City Limits to BU 77 | A
11/01/94 | Farm to Market 324 [Lufkin] from South City Limits to Loop 287 | A
11/01/94 | Farm to Market 507 [Harlingen] from North City Limits to BU 77 | A
11/01/94 | Farm to Market 519 [Texas City, Galveston County] from West City Limits to Loop 197 | A
11/01/94 | Farm to Market 565 [Mont Belvieu] from Loop 207 to Farm to Market 3360 | A
11/01/94 | Farm to Market 577 [Brenham] from US 290 to BS 36 | A
11/01/94 | Farm to Market 609 [La Grange] from Southwest City Limits to BS 71 | A
11/01/94 | Farm to Market 659 [El Paso] from East City Limits to Loop 375 E | A
11/01/94 | Farm to Market 715 [Midland] from Interstate 20 to BI 20 | A
11/01/94 | Farm to Market 801 [Harlingen] from Southwest City Limits to US 77/83 | A
11/01/94 | Farm to Market 1336 [Lufkin] from Farm to Market 324 to end | A
11/01/94 | Farm to Market 1479 [Harlingen] from Southwest City Limits to US 77/83 | A
11/01/94 | Farm to Market 1719 [Amarillo] from North City Limits to BI 40 | A
11/01/94 | Farm to Market 1764 [Texas City, Galveston County] from Interstate 45 to State 146 | A
11/01/94 | Farm to Market 1925 [Edinburg] from US 281 to Farm to Market 2061 | A
11/01/94 | Farm to Market 1926 [Edinburg] from Southwest City Limits to State 107 | A
11/01/94 | Farm to Market 2004 [Texas City, Galveston County] from West City Limits to State 3 | A
11/01/94 | Farm to Market 2061 [Edinburg] from South City Limits to Farm to Market 1925 | A
11/01/94 | Farm to Market 2105 [San Angelo] from US 87 to US 277 | A
11/01/94 | Farm to Market 2128 [Edinburg] from East City Limits to US 281 | A
11/01/94 | Farm to Market 2994 [Harlingen] from West City Limits to Farm to Market 3195 | A
11/01/94 | Farm to Market 3195 [Harlingen] from US 83 to Farm to Market 2994 | A
11/01/94 | Fairgrounds Rd. [Midland] from BI 20 to Loop 250 | A
11/01/94 | Fonesca Dr. [El Paso] from Delta Dr. to Loop 375 | A
11/01/94 | Fred Wilson Rd. [El Paso] from Airport Rd. to US 54 | A
11/01/94 | Interstate 10 [Beaumont] from East City Limits to West City Limits | A
11/01/94 | Interstate 10 [El Paso] from East City Limits to West City Limits | A
11/01/94 | Interstate 10 [Houston] from Interstate 610 E to East City Limits | A
11/01/94 | Interstate 10/US 90 [Houston] from Interstate 610 W to West City Limits | A
11/01/94 | Interstate 10 [Mount Belvieu] from East City Limits to West City Limits | A
11/01/94 | Interstate 20 [Dallas] from East City Limits to West City Limits | A
11/01/94 | Interstate 20 [Fort Worth] from East City Limits to West City Limits | A
11/01/94 | Interstate 20 [Midland] from East City Limits to West City Limits | A
11/01/94 | Interstate 27 [Amarillo] from South City Limits to Interstate 40 | A
03/26/96 | Interstate 27 [Lubbock] from North City Limits to South City Limits | A
11/01/94 | Interstate 30 [Dallas] from East City Limits to Interstate 635 | A
11/01/94 | Interstate 30 [Fort Worth] from West City Limits to Interstate 820 W | A
11/01/94 | Interstate 35 E [Dallas] from North City Limits to LP 12 | A
11/01/94 | Interstate 35 E [Dallas] from South City Limits to Interstate 20 | A
11/01/94 | Interstate 35 W [Fort Worth] from North City Limits to Interstate 820 | A
11/01/94 | Interstate 35 W [Fort Worth] from South City Limits to Interstate 20 | A
11/01/94 | Interstate 35 [New Braunfels] from North City Limits to South City Limits | A
11/01/94 | Interstate 35 [Temple] from North City Limits to South City Limits | A
11/01/94 | Interstate 40 [Amarillo] from East City Limits to West City Limits | A
11/01/94 | Interstate 45 [Dallas] from South City Limits to Interstate 20 | A
11/01/94 | Interstate 45 [Galveston, Galveston County] from Northwest City Limits to State 87 | A
11/01/94 | Interstate 45 [Houston] from North City Limits to Interstate 610 N | A
11/01/94 | Interstate 45 [Houston] from South City Limits to Interstate 610 S | A
11/01/94 | Interstate 45 [Texas City, Galveston County] from North City Limits to South City Limits | A
11/01/94 | Interstate 110 [El Paso] from Cordova Port-of-Entry to Interstate 10 | A
11/01/94 | Interstate 610 [Houston (entire highway)] | A
11/01/94 | Interstate 635 [Dallas] from Interstate 35 E to Interstate 20 | A
11/01/94 | Interstate 820 [Fort Worth (entire highway)] | A
11/01/94 | Loop 12 [Dallas] from Spur 408 to Interstate 35 E | A
11/01/94 | Loop 197 [Texas City, Galveston County] from State 46 to 2nd Ave. | A
11/01/94 | Loop 207 [Mont Belvieu] from State 146 N to State 146 S | A
11/01/94 | Loop 224 [Nacogdoches (Entire Highway)] | A
11/01/94 | Loop 250 [Midland] from Interstate 20 [North, and East] to Fairgrounds Rd. | A
11/01/94 | Loop 287 [Lufkin (entire highway)] | A
03/28/96 | Loop 289 [Lubbock] from US 62/82 W [North, East, South, & West] to Interstate 27 S | A
11/01/94 | Loop 304 [Crockett (entire highway)] | A
11/01/94 | Loop 306 [San Angelo] from US 277 [South, West, and North] to US 67 S | A
11/01/94 | Loop 335 [Amarillo] from Dumas Dr. [US 27/US 287] to East City Limits | A
11/01/94 | Loop 335 [Amarillo] from Dumas Dr. [(US 87/US 287)] to West City Limits | A
11/01/94 | Loop 335 [Amarillo] from NE 24th Ave. to Interstate 40 | A
11/01/94 | Loop 337 [New Braunfels] from Interstate 35 N to Interstate 35 S | A
11/01/94 | Loop 363 [Temple] from Interstate 35 N [East, South, West, & North] to State 36 W | A
11/01/94 | Loop 375 [El Paso] from Railroad Dr. [East, South, West, & North] to US 54 S | A
11/01/94 | Loop 499 [Harlingen] from BU 77 N [East & South] to US 77/83 | A
11/01/94 | Loop 500 [Center] from State 7 W to State 7 E | A
11/01/94 | Marshall Rd. [El Paso] from Fred Wilson Rd. to Railroad Dr. | A
11/01/94 | Railroad Dr. [El Paso] from North City Limits to Fred Wilson Rd. | A
11/01/94 | Rio Hondo Rd. [Harlingen] from Farm to Market 507 to Academy | A
11/01/94 | State 3 [Houston] from Southeast City Limits to Interstate 45 | A
11/01/94 | State 3 [Texas City, Galveston County] from Loop 197 to Farm to Market 1765 | A
11/01/94 | State 3 [Texas City, Galveston County] from Northwest City Limits to Farm to Market 2004 | A
11/01/94 | State 7 [Crockett] from East City Limits to Loop 304 E | A
11/01/94 | State 7/21 [Crockett] from West City Limits to Loop 304 W | A
11/01/94 | State 7 [Nachgdoches] from West City Limits to US 59 | A
11/01/94 | State 7 [Nacogdoches] from East City Limits to Loop 224 E | A
11/01/94 | State 19 [Crockett] from South City Limits to Loop 304 S | A
11/01/94 | State 21 [Crockett] from Northeast City Limits to Loop 304 NE | A
11/01/94 | State 21 [Nacogdoches] from East City Limits to Loop 224 E | A
11/01/94 | State 21 [Nacogdoches] from West City Limits to US 59 | A
11/01/94 | State 36 [Brenham] from BS36 N to US 290 | A
11/01/94 | State 36 [Temple] from West City Limits to State 95 | A
11/01/94 | State 53 [Temple] from East City Limits to Loop 363 E | A
11/01/94 | State 71 [La Grange] from East City Limits to West City Limits | A
11/01/94 | State 87 [Center] from West City Limits to US 96 | A
11/01/94 | State 94 [Lufkin] from West City Limits to Loop 287 W | A
11/01/94 | State 95 [Temple] from South City Limits to State 36/Loop 363 | A
11/01/94 | State 103 [Lufkin] from East City Limits to Loop 287 US 59/69 | A
11/01/94 | State 103 [Lufkin] from West City Limits to Loop 287 W | A
11/01/94 | State 105 [Beaumont, Beaumont District] from West City Limits to US 69/96/287 | A
11/01/94 | State 107 [Edinburg] from East City Limits to US 281 | A
11/01/94 | State 107 [Edinburg] from West City Limits to Farm to Market 2061 | A
03/28/96 | State 114 [Lubbock] from Northeast City Limits to Loop 289 NE | A
03/28/96 | State 114 [Lubbock] from West City Limits to Loop 289 W | A
11/01/94 | State 146 [Mont Belvieu] from North City Limits to Interstate 10 | A
11/01/94 | State 146 [Texas City, Galveston County] from North City Limits to South City Limits | A
11/01/94 | State 199 [Fort Worth] from Northwest City Limits to Interstate 820 | A
11/01/94 | State 225 [Houston] from East City Limits to Interstate 610 | A
11/01/94 | State 275 [Galveston, Galveston County] from Interstate 45 to 9th St. | A
11/01/94 | South Zargosa Rd. [El Paso] from Ysleta Port of Entry to Loop 375 S | A
11/01/94 | Spur 408 [Dallas] from Interstate 20 to Loop 12 | A
11/01/94 | Spur 54 [Harlingen] from US 77 to US 83 | A
11/01/94 | Trowbridge Dr. [El Paso] from Interstate 10 to Delta Dr. | A
11/01/94 | US 54 [El Paso] from New Mexico to Loop 375 S | A
11/01/94 | US 59 [Houston] from North City Limits to Interstate 610 N | A
11/01/94 | US 59 [Houston] from West City Limits to Interstate 610 W | A
11/01/94 | US 59 [Lufkin] from North City Limits to South City Limits | A
11/01/94 | US 59 [Nacogdoches] from North City Limits to South City Limits | A
11/01/94 | US 60 [Amarillo] from East City Limits to Loop 335 E | A
11/01/94 | US 62/180 [El Paso] from East City Limits to Airway Blvd. | A
03/28/96 | US 62/82 [Lubbock] from Northeast City Limits to Loop 289 NE | A
03/28/96 | US 62/82 [Lubbock] from Southwest City Limits to Loop 289 SW | A
11/01/94 | US 67 [San Angelo] from Southwest City Limits to Loop 306 W | A
11/01/94 | US 69/96/287 [Beaumont] from North City Limits to South City Limits | A
11/01/94 | US 69 [Lufkin] from Northwest City Limits to Southeast City Limits | A
11/01/94 | US 75 [Dallas] from North City Limits to Interstate 635 N | A
11/01/94 | US 77 [Harlingen] from North City Limits to South City Limits | A
11/01/94 | US 77 [La Grange] from North City Limits to State 71 | A
11/01/94 | US 80 [Dallas] from East City Limits to Interstate 635 | A
11/01/94 | US 81/287 [Fort Worth] from North City Limits to Interstate 35 W | A
11/01/94 | US 83 [Harlingen] from South City Limits to West City Limits | A
03/28/96 | US 84 [Lubbock] from Northwest City Limits to Loop 289 N | A
03/28/96 | US 84 [Lubbock] from Southeast City Limits to Loop 289 S | A
11/01/94 | US 87/287 [Amarillo] from Loop 335 to North City Limits | A
11/01/94 | US 87 [San Angelo] from North City Limits to Farm to Market 2105 | A
11/01/94 | US 90 [Beaumont] from West City Limits to Interstate 10 | A
11/01/94 | US 96 [Center] from North City Limits to South City Limits | A
11/01/94 | US 175 [Dallas] from South City Limits to Interstate 20 | A
11/01/94 | US 190 [Temple] from South City Limits to Interstate 35 | A
11/01/94 | US 281 [Edinburg] from North City Limits to South City Limits | A
11/01/94 | US 287 [Amarillo] from East City Limits to Interstate 40 | A
11/01/94 | US 287 [Crockett] from East City Limits to Loop 304 E | A
11/01/94 | US 287 [Crockett] from North City Limits to Loop 304 N | A
11/01/94 | US 290 [Brenham] from East City Limits to West City Limits | A
11/01/94 | US 290 [Houston] from Northwest City Limits to Interstate 610 | A
11/01/94 | US 377 [Fort Worth] from West City Limits to Interstate 20 | A

State: Utah
State Agency: | Utah DOT / OMC | FMCSA: | UT FMCSA Field Office
POC: | Mr. Richard M. Ollerton | FMCSA POC: | UT Motor Carrier State Director
Address: | 4501 South 2700 West Box 148240 Salt Lake City, UT 84119 | Address: | 2520 W. 4700 South Suite 9A Salt Lake City, UT 84118-1847
Phone: | (801) 965-4880 | Phone: | (801) 963-0096
Fax: | (801) 965-4211 | Fax: |

Radioactive Hazmat (RAM) Routes
UT RAM Preferred Routes
Designation Date | Route Description | Restrict Desig 0123456789i ABIMP
07/01/97 | Interstate 15 from Idaho to Interstate 84 | P
07/01/97 | Interstate 80 from Interstate 84 to Wyoming | P
07/01/97 | Interstate 84 from Interstate 15 to Interstate 80 [Note: The Perry Port of Entry on I-15/I-84 is a designated safe haven for radioactive materials in transit.] | P

Non-Radioactive Hazmat (NRHM) Routes
UT NRHM Designated Routes
Designation Date | Route Description | Restrict Desig 0123456789i ABIMP
07/01/97 | All Interstates [The Utah Department of Transportation states that all Interstate routes in the State are designated NRHM routes.] | A
07/01/97 | Interstate 215 [Belt Route] [Entire Route] | A

State: Vermont
State Agency: | VT Emergency Mgt. Div. | FMCSA: | VT FMCSA Field Office
POC: | Mr. Ed VonTurkovich | FMCSA POC: | VT Motor Carrier State Director
Address: | Department of Public Safety 103 South Main Street Waterbury, VT 05671 | Address: | Federal Building 87 State St. / P.O. Box 568 Montpelier, VT 05601
Phone: | (802)-244-8721 | Phone: | (802) 828-4480
Fax: | (802)-244-8655 | Fax: |
No Routes Designated as of 11/14/00

State: Virginia
State Agency: | VA DOT | FMCSA: | VA FMCSA Field Office
POC: | Perry Cogburn | FMCSA POC: | VA Motor Carrier State Director
Address: | 1221 East Broad St. Richmond, VA 23219 | Address: | 400 North 8th St. Room 750 Richmond, VA 23240
Phone: | (804)-786-6824 | Phone: | (804) 775-3322
Fax: | (804)-225-4979 | Fax: |

Restricted Routes For All VA Hazmats
Designation Date | Route Description | Restrict Desig 0123456789i ABIMP
05/25/85 | Airport Tunnel [City of Roanoke] [Detours: Airport Rd- Route 118; Hershberger Rd—Route 101; Williamson Rd.—Route 11; Peters Creek Road—Route 117.] | 0

Radioactive Hazmat (RAM) Routes
VA RAM Restricted Routes
Designation Date | Route Description | Restrict Desig 0123456789i ABIMP
11/15/95 | Interstate 64 [Tunnel] from [Hampton] to [Norfolk] | 7
11/15/95 | Interstate 77 [to/from West Virginia] [Tunnel] | 7
11/15/95 | Interstate 264 from [Norfolk] to [Portsmouth] | 7
11/15/95 | Interstate 664 [Tunnel] from [Newport News] to [Suffolk] | 7
11/15/95 | US 58 [Tunnel] from Norfolk to Portsmouth | 7

Non-Radioactive Hazmat (NRHM) Routes
VA NRHM Restricted Routes
Designation Date | Route Description | Restrict Desig 0123456789i ABIMP
11/12/96 | Chesapeake Bay Bridge—Tunnel [Phone: (757) 331-2960. This falls under the jurisdiction of Chesapeake Bay Bridge and Tunnel District, who maintain their own regulations regarding its use. Copies of these regulations can be obtained from: Chesapeake Bay Bridge and Tunnel District, 32386 Lankford Highway, Post Office Box 111, Cape Charles, VA 23310.] | 1,2,4,6,A
11/15/95 | Elizabeth River Tunnel [Downtown] [Phone: (757) 494-2424. Classes 1.1, 1.2, 1.3, 2.3, 4.3, and 6.1 are PROHIBITED. Hazmat shipper MUST abide by rules & regulations outlined in VA DOT's “Rules and Regulations Governing the Transportation of Hazardous Materials through Bridge-Tunnel Facilities”. This document is available from: VDOT EOC, 1221 E. Broad St., Richmond 23219. See http://www.vdot.state.va.us/roads/tunnel.html for real-time traffic information.] | 1,2,4,6,A
11/15/95 | Elizabeth River Tunnel [Midtown] [Phone: (757) 683-8123. Classes 1.1, 1.2, 1.3, 2.3, 4.3, and 6.1 are PROHIBITED. Hazmat shipper MUST abide by rules & regulations outlined in VA DOT's “Rules and Regulations Governing the Transportation of Hazardous Materials through Bridge-Tunnel Facilities”. This document is available from: VDOT EOC, 1221 E. Broad St., Richmond 23219. See http://www.vdot.state.va.us/roads/tunnel.html for real-time traffic information.] | 1,2,4,6,A
11/15/95 | Hampton Roads Bridge—Tunnel [Phone: (757) 727-4830. Classes 1.1, 1.2, 1.3, 2.3, 4.3, and 6.1 are PROHIBITED. Hazmat shipper MUST abide by rules & regulations outlined in VA DOT's “Rules and Regulations Governing the Transportation of Hazardous Materials through Bridge-Tunnel Facilities”. This document is available from: VDOT EOC, 1221 E. Broad St., Richmond 23219] | 1,2,4,6,i,A
11/15/95 | Monitor-Merrimac Memorial [Bridge/Tunnel] [Phone: (757) 247-2100. Classes 1.1, 1.2, 1.3, 2.3, 4.3, and 6.1 are PROHIBITED. Hazmat shipper MUST abide by rules & regulations outlined in VA DOT's “Rules and Regulations Governing the Transportation of Hazardous Materials through Bridge-Tunnel Facilities”. This document is available from: VDOT EOC, 1221 E. Broad St., Richmond 23219. See http://www.vdot.state.va.us/roads/tunnel.html for real-time traffic information.] | 1,2,4,6,i,A

VA NRHM Designated Routes
Designation Date | Route Description | Restrict Desig 0123456789i ABIMP
11/15/95 | Big Walker Mountain Tunnel [Phone: (540) 228-5571. Hazmat shipper MUST abide by rules & regulations outlined in VA DOT's “Rules and Regulations Governing the Transportation of Hazardous Materials through Bridge-Tunnel Facilities”. This document is available from: VDOT EOC, 1221 E. Broad St., Richmond 23219] | A
11/12/96 | Chesapeake Bay Bridge—Tunnel [Phone: (757) 331-2960. This falls under the jurisdiction of Chesapeake Bay Bridge and Tunnel District, who maintain their own regulations regarding its use. Copies of these regulations can be obtained from: Chesapeake Bay Bridge and Tunnel District, 32386 Lankford Highway, Post Office Box 111, Cape Charles, VA 23310.] | 1,2,4,6,A
11/15/95 | East River Mountain Tunnel [Phone: (540) 928-1994. Hazmat shipper MUST abide by rules & regulations outlined in VA DOT's “Rules and Regulations Governing the Transportation of Hazardous Materials through Bridge-Tunnel Facilities”. This document is available from: VDOT EOC, 1221 E. Broad St., Richmond 23219] | A
11/15/95 | Elizabeth River Tunnel [Downtown] [Phone: (757) 494-2424. Classes 1.1, 1.2, 1.3, 2.3, 4.3, and 6.1 are PROHIBITED. Hazmat shipper MUST abide by rules & regulations outlined in VA DOT's “Rules and Regulations Governing the Transportation of Hazardous Materials through Bridge-Tunnel Facilities”. This document is available from: VDOT EOC, 1221 E. Broad St., Richmond 23219. See http://www.vdot.state.va.us/roads/tunnel.html for real-time traffic information.] | 1,2,4,6,A
11/15/95 | Elizabeth River Tunnel [Midtown] [Phone: (757) 683-8123. Classes 1.1, 1.2, 1.3, 2.3, 4.3, and 6.1 are PROHIBITED. Hazmat shipper MUST abide by rules & regulations outlined in VA DOT's “Rules and Regulations Governing the Transportation of Hazardous Materials through Bridge-Tunnel Facilities”. This document is available from: VDOT EOC, 1221 E. Broad St., Richmond 23219. See http://www.vdot.state.va.us/roads/tunnel.html for real-time traffic information.] | 1,2,4,6,A
11/15/95 | Hampton Roads Bridge—Tunnel [Phone: (757) 727-4830. Classes 1.1, 1.2, 1.3, 2.3, 4.3, and 6.1 are PROHIBITED. Hazmat shipper MUST abide by rules & regulations outlined in VA DOT's “Rules and Regulations Governing the Transportation of Hazardous Materials through Bridge-Tunnel Facilities”. This document is available from: VDOT EOC, 1221 E. Broad St., Richmond 23219] | 1,2,4,6,i,A
07/31/95 | Interstate 495 [** Restricted to right lanes only **] | A
05/25/85 | Interstate 664 [Bridge-Tunnel] [Hazmat shipper MUST abide by rules & regulations outlined in VA DOT's “Hazardous Materials Transportation Rules and Regulations at Bridge-Tunnel Facilities”. This manual available from: State Traffic Engineer, VDOT, 1401 E. Broad St., Richmond 23219.] | A
11/15/95 | Monitor-Merrimac Memorial [Bridge/Tunnel] [Phone: (757) 247-2100. Classes 1.1, 1.2, 1.3, 2.3, 4.3, and 6.1 are PROHIBITED. Hazmat shipper MUST abide by rules & regulations outlined in VA DOT's “Rules and Regulations Governing the Transportation of Hazardous Materials through Bridge-Tunnel Facilities”. This document is available from: VDOT EOC, 1221 E. Broad St., Richmond 23219. See http://www.vdot.state.va.us/roads/tunnel.html for real-time traffic information.] | 1,2,4,6,i,A

State: Virginia
State Agency: | Dept. of Emergency Management | FMCSA: | VA FMCSA Field Office
POC: | Brian Iverson | FMCSA POC: | VA Motor Carrier State Director
Address: | 10501 Trade Court Richmond, VA 23236-3713 | Address: | 400 North 8th St. Room 750 Richmond, VA 23240
Phone: | (804) 897-6500 | Phone: | (804) 775-3322
Fax: | (804) 897-6576 | Fax: |

Radioactive Hazmat (RAM) Routes
VA RAM Preferred Routes
Designation Date | Route Description | Restrict Desig 0123456789i ABIMP
03/11/94 | Interstate 85 from Interstate 95 to State 460 | P
03/11/94 | State 5 from State 155 [in Charles City] to State 156 | P
03/11/94 | State 10 from State 156 to State 58 | P
03/11/94 | State 100 [at Pearisburg] from US 460 to Interstate 81 | P
03/11/94 | State 155 from Interstate 64 to State 5 [at Charles City] | P
03/11/94 | State 156 from State 5 to State 10 | P
03/11/94 | State 208 from US 522 to US 1 | P
03/11/94 | State 460 from Interstate 85 to State 726 [Mt. Athos Rd. in Lynchburg] | P
03/11/94 | US 1 from State 208 to Interstate 95 [At Fourmile Fork] | P
03/11/94 | US 17/U258 from Interstate 64 to State 10 | P
03/11/94 | US 29 from Interstate 66 to Interstate 64 | P
03/11/94 | US 58 from Portsmouth to Interstate 95 | P
03/11/94 | US 220 Alt. from US 460 to Interstate 81 | P
03/11/94 | US 460 from US 1 [in Petersburg] to US 58 [North of Suffolk] | P
03/11/94 | US 460 from West Virginia to State 100 [Pearisburg] | P
03/11/94 | US 469 from State 726 [Mt. Athos Rd. in Lynchburg] to US 220 Alt. | P
03/11/94 | US 522 from State 208 to Interstate 64 | P

State: Washington
State Agency: | No Agency Designated | FMCSA: | WA FMCSA Field Office
POC: |  | FMCSA POC: | WA Motor Carrier State Director
Address: |  | Address: | 711 S. Capitol Way Suite 501 Olympia, WA 98501-1284
Phone: |  | Phone: | (206) 753-9875
Fax: |  | Fax: |
No Routes Designated as of 11/14/00

State: West Virginia
State Agency: | WV Office of Emergency Services | FMCSA: | WV FMCSA Field Office
POC: | John Pack | FMCSA POC: | WV Motor Carrier State Director
Address: | 1900 Kanawha Blvd. East EB-80, Bldg. 1 Charleston, WV 25305-0360 | Address: | 700 Washington St. East Geary Plaza, Room 205 Charleston, WV 25301-1604
Phone: | (304) 558-5380 | Phone: | (304) 347-5935
Fax: | (304) 344-4538 | Fax: |
No Routes Designated as of 11/14/00

State: Wisconsin
State Agency: | Wisconsin DOT | FMCSA: | WI FMCSA Field Office
POC: | Terrence D. Mulcahy | FMCSA POC: | WI Motor Carrier State Director
Address: | Office of the Secretary P.O. Box 7910 Madison, WI 53707-7910 | Address: | 567 D'Onofrio Dr. Suite 101 Madison, WI 53719-2814
Phone: | (608) 266-1114 | Phone: | (608) 829-7530
Fax: | (608) 266-9912 | Fax: |
No Routes Designated as of 11/14/00

State: Wyoming
State Agency: | WY Highway Patrol | FMCSA: | WY FMCSA Field Office
POC: | Capt L.S. Gerard | FMCSA POC: | WY Motor Carrier State Director
Address: | 5300 Bishop Blvd Cheyenne, WY 82009-3340 | Address: | 1916 Evans Ave. Cheyenne, WY 82001-3764
Phone: | (307)-777-4312 | Phone: | (307) 772-2305
Fax: | (307)-777-4282 | Fax: |

Restricted Routes For All WY Hazmats
Designation Date | Route Description | Restrict Desig 0123456789i ABIMP
04/12/94 | City of Cheyenne [City Ordinance: Hazardous materials and radioactive materials may not be transported by motor vehicle within the City of Cheyenne except for the purpose of making pickups and/or deliveries within the City, unless such routing is consistent with 49 CFR 397.7 or 49 CFR 177.825. Motor vehicles carrying hazardous and/or radioactive materials which are making local pickups and/or deliveries must be operated over the safest and most direct route to and from the origination and destination point. Such routes shall not pass through residential areas unless there is no practical alternative.] | 0

[FR Doc. 00-30815 Filed 12-1-00; 8:45 am]

BILLING CODE 4910-EX-F